ENVIRONMENTAL PROTECTION AGENCY

40 CFR Part 63

[EPA-HQ-OAR-2018-0415; FRL-10006-76-OAR]

RIN 2060-AU23

National Emission Standards for Hazardous Air Pollutants: Cellulose Products Manufacturing Residual Risk and Technology Review

AGENCY: Environmental Protection Agency (EPA).

ACTION: Final rule.

SUMMARY: This action finalizes the residual risk and technology review (RTR) conducted for the Miscellaneous Viscose Processes and Cellulose Ether Production source categories regulated under the National Emission Standards for Hazardous Air Pollutants (NESHAP) for Cellulose Products Manufacturing. The EPA is finalizing the proposed determination that the risks from both source categories are acceptable and that the current NESHAP provides an ample margin of safety to protect public health. The EPA identified no new cost-effective controls under the technology review to achieve further emissions reductions. These final amendments address emissions during startup, shutdown, and malfunction (SSM) events; add electronic reporting requirements; add provisions for periodic emissions performance testing for facilities using non-recovery control devices; add a provision allowing more flexibility for monitoring of biofilter control devices; and make technical and editorial changes. Although these amendments are not expected to reduce emissions of hazardous air pollutants (HAP), they will improve monitoring, compliance, and implementation of the rule.

DATES: This final rule is effective on July 2, 2020. The incorporation by reference (IBR) of certain publications listed in the rule is approved by the Director of the Federal Register as of July 2, 2020.

ADDRESSES: The U.S. Environmental Protection Agency (EPA) has established a docket for this action under Docket ID No. EPA-HQ-OAR-2018-0415. All documents in the docket are listed on the https://www.regulations.gov/ website. Although listed, some information is not publicly available, e.g., Confidential Business Information or other information whose disclosure is restricted by statute. Certain other material, such as copyrighted material, is not placed on the internet and will be publicly available only in hard copy form. Publicly available docket materials are available either electronically through https://www.regulations.gov/, or in hard copy at the EPA Docket Center, WJC West Building, Room Number 3334, 1301 Constitution Ave. NW, Washington, DC. The Public Reading Room hours of operation are 8:30 a.m. to 4:30 p.m. Eastern Standard Time (EST), Monday through Friday. The telephone number for the Public Reading Room is (202) 566-1744, and the telephone number for the EPA Docket Center is (202) 566-1742.

FOR FURTHER INFORMATION CONTACT: For questions about this final action, contact Dr. Kelley Spence, Sector Policies and Programs Division (E143-03), Office of Air Quality Planning and Standards, U.S. Environmental Protection Agency, Research Triangle Park, North Carolina 27711; telephone number: (919) 541-3158; fax number: (919) 541-0516; and email address: spence.kelley@epa.gov. For specific information regarding the risk modeling methodology, contact Mr. James Hirtz, Health and Environmental Impacts Division (C539-02), Office of Air Quality Planning and Standards, U.S. Environmental Protection Agency, Research Triangle Park, North Carolina 27711; telephone number: (919) 541-0881; fax number: (919) 541-0840; and email address: hirtz.james@epa.gov. For information about the applicability of the NESHAP to a particular entity, contact Ms. Maria Malave, Office of Enforcement and Compliance Assurance (2227A), U.S. Environmental Protection Agency, WJC South Building, 1200 Pennsylvania Ave. NW, Washington, DC 20460; telephone number: (202) 564-7027; and email address: malave.maria@epa.gov.

SUPPLEMENTARY INFORMATION:

Preamble acronyms and abbreviations. We use multiple acronyms and terms in this preamble. While this list may not be exhaustive, to ease the reading of this preamble and for reference purposes, the EPA defines the following terms and acronyms here:

%R percent recovery

ASTM American Society for Testing and Materials

CAA Clean Air Act

CDX Central Data Exchange

CEDRI Compliance and Emissions Data Reporting Interface

CEMS continuous emission monitoring system

CEP Cellulose Ethers Production

CFR Code of Federal Regulations

CMC carboxymethyl cellulose

CPMS continuous parameter monitoring system

CS2 carbon disulfide

EPA Environmental Protection Agency

ERPG Emergency Response Planning Guideline

FTIR Fourier Transform Infrared

H2S hydrogen sulfide

HAP hazardous air pollutants(s)

HCl hydrochloric acid

HEC hydroxyethyl cellulose

HI hazard index

IBR incorporation by reference

ICR information collection request

km kilometers

km² square kilometers

lbs/yr pounds per year

MACT maximum achievable control technology

MC methyl cellulose

mg/kg-day milligrams per kilogram per day

MIR maximum individual risk

MVP Miscellaneous Viscose Processes

NAAQS National Ambient Air Quality Standards

NAICS North American Industry Classification System

NaOH sodium hydroxide

NESHAP national emission standards for hazardous air pollutants

ng/dscm nanograms per dry standard cubic meter

NRDC National Resources Defense Council

NTTAA National Technology Transfer and Advancement Act

OMB Office of Management and Budget

PB-HAP hazardous air pollutants known to be persistent and bio-accumulative in the environment

PRA Paperwork Reduction Act

RFA Regulatory Flexibility Act

RIA Regulatory Impact Analysis

RTR residual risk and technology review

SSM startup, shutdown, and malfunction

TOSHI target organ-specific hazard index

the Court the United States Court of Appeals for the District of Columbia Circuit

tpy tons per year

UMRA Unfunded Mandates Reform Act

VCS voluntary consensus standards

VOC volatile organic compounds

Background information. The EPA is finalizing the September 9, 2019, proposed determinations regarding the Cellulose Products Manufacturing NESHAP RTR and the proposed revisions to this NESHAP to address emissions during SSM events and to improve monitoring, compliance, and implementation. We summarize some of the more significant comments received regarding the proposed rule and provide our responses in this preamble. A summary of the public comments on the proposal not discussed in this preamble and the EPA's responses to those comments is available in the memorandum titled National Emissions Standards for Hazardous Air Pollutants: Cellulose Products Manufacturing (40 CFR part 63, subpart UUUU) Residual Risk and Technology Review, Final Amendments—Response to Public Comments on September 9, 2019 Proposal, Docket ID No. EPA-HQ-OAR-2018-0415. A “track changes” version of the regulatory language that incorporates the changes in this action is available in the docket.

Organization of this document. The information in this preamble is organized as follows:

I. General Information

A. Does this action apply to me?

B. Where can I get a copy of this document and other related information?

C. Judicial Review and Administrative Reconsideration

II. Background

A. What is the statutory authority for this action?

B. What is the source category and how does the NESHAP regulate HAP emissions from the source category?

C. What changes did we propose for the Cellulose Products Manufacturing NESHAP in our September 9, 2019, proposal?

III. What is included in this final rule?

A. What are the final rule amendments based on the risk review for the source category?

B. What are the final rule amendments based on the technology review for the source category?

C. What are the final rule amendments addressing emissions during periods of SSM?

D. What other changes have been made to the NESHAP?

E. What are the effective and compliance dates of the standards?

IV. What is the rationale for our final decisions and amendments for the source category?

A. Residual Risk Review

B. Technology Review

C. Removal of the SSM Exemption

D. Five-Year Periodic Emissions Testing

E. Electronic Reporting

F. Changes to the Monitoring Requirements for Biofilter Control Devices

G. IBR Under 1 CFR Part 51 for the Cellulose Products Manufacturing NESHAP

H. Technical and Editorial Changes for the Cellulose Products Manufacturing NESHAP

V. Summary of Cost, Environmental, and Economic Impacts and Additional Analyses Conducted

A. What are the affected facilities?

B. What are the air quality impacts?

C. What are the cost impacts?

D. What are the economic impacts?

E. What are the benefits?

F. What analysis of environmental justice did we conduct?

G. What analysis of children's environmental health did we conduct?

VI. Statutory and Executive Order Reviews

A. Executive Orders 12866: Regulatory Planning and Review and Executive Order 13563: Improving Regulation and Regulatory Review

B. Executive Order 13771: Reducing Regulations and Controlling Regulatory Costs

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA) and 1 CFR Part 51

K. Executive Order 12898: Federal Actions to Address Environmental Justice in Minority Populations and Low-Income Populations

L. Congressional Review Act (CRA)

I. General Information

A. Does this action apply to me?

Regulated entities. Categories and entities potentially regulated by this action are shown in Table 1 of this preamble.

Table 1—NESHAP and Industrial Source Categories Affected by This Final Action
Source category | NESHAP | NAICS code ¹
Miscellaneous Viscose Processes | Cellulose Products Manufacturing | 325211, 325220, 326121, 326199.
Cellulose Ethers Production | Cellulose Products Manufacturing | 325199.
¹ North American Industry Classification System.

Table 1 of this preamble is not intended to be exhaustive, but rather to provide a guide for readers regarding entities likely to be affected by the final action for the source categories listed. To determine whether your facility is affected, you should examine the applicability criteria in the appropriate NESHAP. If you have any questions regarding the applicability of any aspect of this NESHAP, please contact the appropriate person listed in the preceding FOR FURTHER INFORMATION CONTACT section of this preamble.

B. Where can I get a copy of this document and other related information?

In addition to being available in the docket, an electronic copy of this final action will also be available on the internet. Following signature by the EPA Administrator, the EPA will post a copy of this final action at: https://www.epa.gov/stationary-sources-air-pollution/cellulose-products-manufacturing-national-emission-standards. Following publication in the Federal Register, the EPA will post the Federal Register version at this same website.

Additional information is available on the RTR website at https://www.epa.gov/stationary-sources-air-pollution/risk-and-technology-review-national-emissions-standards-hazardous. This information includes an overview of the RTR program and links to project websites for the RTR source categories.

C. Judicial Review and Administrative Reconsideration

Under Clean Air Act (CAA) section 307(b)(1), judicial review of this final action is available only by filing a petition for review in the United States Court of Appeals for the District of Columbia Circuit (the Court) by August 31, 2020. Under CAA section 307(b)(2), the requirements established by this final rule may not be challenged separately in any civil or criminal proceedings brought by the EPA to enforce the requirements. Section 307(d)(7)(B) of the CAA further provides that only an objection to a rule or procedure which was raised with reasonable specificity during the period for public comment (including any public hearing) may be raised during judicial review. This section also provides a mechanism for the EPA to reconsider the rule if the person raising an objection can demonstrate to the Administrator that it was impracticable to raise such objection within the period for public comment or if the grounds for such objection arose after the period for public comment (but within the time specified for judicial review) and if such objection is of central relevance to the outcome of the rule. Any person seeking to make such a demonstration should submit a Petition for Reconsideration to the Office of the Administrator, U.S. EPA, Room 3000, WJC South Building, 1200 Pennsylvania Ave. NW, Washington, DC 20460, with a copy to both the person(s) listed in the preceding FOR FURTHER INFORMATION CONTACT section, and the Associate General Counsel for the Air and Radiation Law Office, Office of General Counsel (Mail Code 2344A), U.S. EPA, 1200 Pennsylvania Ave. NW, Washington, DC 20460.

II. Background

A. What is the statutory authority for this action?

Section 112 of the CAA establishes a two-stage regulatory process to address emissions of HAP from stationary sources. In the first stage, the EPA must identify categories of sources emitting one or more of the HAP listed in CAA section 112(b) and then promulgate technology-based NESHAP for those sources. “Major sources” are those that emit, or have the potential to emit, any single HAP at a rate of 10 tons per year (tpy) or more, or 25 tpy or more of any combination of HAP. For major sources, these standards are commonly referred to as maximum achievable control technology (MACT) standards and must reflect the maximum degree of emission reductions of HAP achievable (after considering cost, energy requirements, and non-air quality health and environmental impacts). In developing MACT standards, CAA section 112(d)(2) directs the EPA to consider the application of measures, processes, methods, systems, or techniques, including, but not limited to, those that reduce the volume of or eliminate HAP emissions through process changes, substitution of materials, or other modifications; enclose systems or processes to eliminate emissions; collect, capture, or treat HAP when released from a process, stack, storage, or fugitive emissions point; are design, equipment, work practice, or operational standards; or any combination of the above.

For these MACT standards, the statute specifies certain minimum stringency requirements, which are referred to as MACT floor requirements, and which may not be based on cost considerations. See CAA section 112(d)(3). For new sources, the MACT floor cannot be less stringent than the emission control achieved in practice by the best-controlled similar source. The MACT standards for existing sources can be less stringent than floors for new sources, but they cannot be less stringent than the average emission limitation achieved by the best-performing 12 percent of existing sources in the category or subcategory (or the best-performing five sources for categories or subcategories with fewer than 30 sources). In developing MACT standards, the EPA must also consider control options that are more stringent than the floor under CAA section 112(d)(2). The Agency may establish standards more stringent than the floor based on the consideration of the cost of achieving the emissions reductions, any non-air quality health and environmental impacts, and energy requirements.

In the second stage of the regulatory process, the CAA requires the EPA to undertake two different analyses, which we refer to as the technology review and the residual risk review. Under the technology review, the EPA must review the technology-based standards and revise them “as necessary (taking into account developments in practices, processes, and control technologies)” no less frequently than every 8 years, pursuant to CAA section 112(d)(6). Under the residual risk review, the EPA must evaluate the risk to public health remaining after application of the technology-based standards and revise the standards, if necessary, to provide an ample margin of safety to protect public health or to prevent, taking into consideration costs, energy, safety, and other relevant factors, an adverse environmental effect. The residual risk review is required within 8 years after promulgation of the technology-based standards, pursuant to CAA section 112(f). In conducting the residual risk review, if the EPA determines that the current standards provide an ample margin of safety to protect public health, it is not necessary to revise the MACT standards pursuant to CAA section 112(f).¹ For more information on the statutory authority for this rule, see 84 FR 47348, September 9, 2019.

¹ The Court has affirmed this approach of implementing CAA section 112(f)(2)(A): NRDC v. EPA, 529 F.3d 1077, 1083 (D.C. Cir. 2008) (“If EPA determines that the existing technology-based standards provide an `ample margin of safety,' then the Agency is free to readopt those standards during the residual risk rulemaking.”).

B. What is the source category and how does the NESHAP regulate HAP emissions from the source category?

The EPA promulgated the Cellulose Products Manufacturing NESHAP on June 11, 2002 (67 FR 40044). The standards are codified at 40 CFR part 63, subpart UUUU. The cellulose products manufacturing industry includes the Miscellaneous Viscose Processes (MVP) source category and the Cellulose Ethers Production (CEP) source category. The sections below provide details on each source category and how the NESHAP regulates the HAP emissions from each source category.

1. Miscellaneous Viscose Processes

The MVP source category includes any facility engaged in the production of cellulose food casings, rayon, cellophane, or cellulosic sponges, which includes the following process steps: Production of alkali cellulose from cellulose and sodium hydroxide (NaOH); production of sodium cellulose xanthate from alkali cellulose and carbon disulfide (CS2) (xanthation); production of viscose from sodium cellulose xanthate and NaOH solution; regeneration of liquid viscose into solid cellulose; ² and washing of the solid cellulose product (see 65 FR 52171-2, August 28, 2000).

² The MVP operations use different methods and equipment to complete the regeneration step. Cellulose food casing operations extrude viscose through a die, forming a tube, while rayon operations extrude viscose through spinnerets, forming thin strands. Cellophane operations extrude viscose through a long slit, forming a flat sheet, while cellulosic sponge operations feed a mixture of viscose and Glauber's salt into a sponge mold.

There are currently five MVP facilities in operation in the United States. While the NESHAP includes standards for rayon manufacturing, all rayon plants in the U.S. have shut down since promulgation of the original rule.

The Cellulose Products Manufacturing NESHAP includes emission limits, operating limits, and work practice standards for MVP emission sources. MVP operations are required to reduce the total sulfide emissions from their process vents and control the CS2 emissions from their CS2 unloading and storage operations. Cellophane operations are required to reduce the toluene emissions from their solvent coating operations and toluene storage vessels. Additionally, MVP operations must comply with work practice standards for closed-vent systems and heat exchanger systems. The NESHAP also includes various operating limits, initial performance tests, ongoing monitoring using continuous parameter monitoring systems (CPMS) and continuous emissions monitoring systems (CEMS), recordkeeping, and reporting. The rule was amended in June 2005 (70 FR 36524) to correct the definition for “viscose process change” under 40 CFR 63.5610.

2. Cellulose Ethers Production

The CEP source category includes any facility engaged in the production of carboxymethyl cellulose (CMC), hydroxyethyl cellulose (HEC), hydroxypropyl cellulose (HPC), methyl cellulose (MC), or hydroxypropyl methyl cellulose (HPMC), which includes the following process steps: Production of alkali cellulose from cellulose and NaOH; reaction of the alkali cellulose with one or more organic chemicals to produce a cellulose ether product; ³ washing and purification of the cellulose ether product; and drying of the cellulose ether product (see 65 FR 52171; August 28, 2000).

³ To produce CMC, HEC, HPC, MC, and HPMC, alkali cellulose is reacted with chloroacetic acid, ethylene oxide, propylene oxide, methyl chloride, and a combination of methyl chloride and propylene oxide, respectively.

There are currently three CEP facilities in operation in the United States. The Cellulose Products Manufacturing NESHAP includes emission limits, operating limits, and work practice standards for CEP emission sources. CEP operations are required to control the HAP emissions from their process vents, wastewater, equipment leaks, and liquid streams in open systems. Additionally, CEP operations must comply with work practice standards for closed-vent systems and heat exchanger systems. The NESHAP also includes various operating limits, initial performance tests, ongoing monitoring using CPMS and CEMS, recordkeeping, and reporting. The rule was amended in June 2005 (70 FR 36524) to correct the definition for “cellulose ether process change” under 40 CFR 63.5610.

C. What changes did we propose for the Cellulose Products Manufacturing NESHAP in our September 9, 2019, proposal?

On September 9, 2019, the EPA published a proposed rule in the Federal Register for the Cellulose Products Manufacturing NESHAP, 40 CFR part 63, subpart UUUU, that presented the results of the RTR analyses, proposed RTR determinations, and several proposed rule changes. Based on our RTR analyses, the EPA proposed to determine that the risks from the source categories covered by the Cellulose Products Manufacturing NESHAP are acceptable, that the current NESHAP provides an ample margin of safety to protect public health, and that no new cost-effective controls are available that would achieve further emissions reductions.

The proposed rule changes included the following:

• Amendments to the SSM provisions;

• new periodic air emissions performance testing for facilities that use non-recovery control devices;

• new reporting provisions requiring affected sources to electronically submit compliance notifications, semiannual reports and performance test reports using the EPA's Compliance and Emissions Data Reporting Interface (CEDRI);

• amendments to the operating limits and compliance requirements in 40 CFR 63.5535(i)(7) to allow facilities the flexibility to monitor conductivity as an alternative to pH monitoring for determining compliance of biofilter control devices;

• revision of the requirements in 40 CFR 63.5505 to clarify that CS2 storage tanks that are part of a submerged unloading and storage operation subject to 40 CFR part 63, subpart UUUU, is not subject to 40 CFR part 60, subpart Kb;

• revision of the performance test requirements in 40 CFR 63.5535(b) and 40 CFR 63.5535(c) to specify the conditions for conducting performance tests;

• revisions to Table 4 to Subpart UUUU of Part 63 to correct an error in the reference to a test method appendix;

• revisions to the performance test requirements in Table 4 to Subpart UUUU of Part 63 to add IBR for ASTM D6420-99 (Reapproved 2010), ASTM D5790-95 (Reapproved 2012), and ASTM D6348-12e1;

• revision to the reporting requirements in 40 CFR 63.5580 and the reporting and recordkeeping requirements in Tables 8 and 9 to Subpart UUUU of Part 63 to include the requirements to record and report information on failures to meet the applicable standard and the corrective actions taken; and

• revisions to the General Provisions applicability table (Table 10 to Subpart UUUU of Part 63) to align with those sections of the General Provisions that have been amended or reserved over time.

III. What is included in this final rule?

This action finalizes the EPA's determinations pursuant to the RTR provisions of CAA section 112 for the MVP and the CEP source categories. This action also finalizes changes to the Cellulose Products Manufacturing NESHAP, including removal of the SSM exemption, addition of electronic reporting, addition of periodic emissions performance testing, amendments allowing more flexibility for monitoring of biofilter control devices, and other clarifications and corrections.

A. What are the final rule amendments based on the risk review for the source category?

1. Miscellaneous Viscose Processes

The EPA is finalizing its proposed finding that risk due to emissions of air toxics from this source category is acceptable, and is finalizing its proposed determination that the current NESHAP provides an ample margin of safety to protect public health and prevent an adverse environmental effect. Based on these determinations, we are not finalizing any revisions to the Cellulose Products Manufacturing NESHAP based on the analyses conducted under CAA section 112(f) for the MVP source category, and we are readopting the standards.

2. Cellulose Ethers Production

The EPA is finalizing its proposed finding that risk due to emissions of air toxics from this source category is acceptable, and is finalizing its proposed determination that the current NESHAP provides an ample margin of safety to protect public health and prevent an adverse environmental effect. Based on these determinations, we are not finalizing any revisions to the Cellulose Products Manufacturing NESHAP based on the analyses conducted under CAA section 112(f) for the CEP source category, and we are readopting the standards.

B. What are the final rule amendments based on the technology review for the source category?

1. Miscellaneous Viscose Processes

The EPA is finalizing its proposed determination that there are no developments in practices, processes, and control technologies that warrant revisions to the MACT standards for this source category. Therefore, we are not finalizing any revisions to the MACT standards under CAA section 112(d)(6).

2. Cellulose Ethers Production

The EPA is finalizing its proposed determination that there are no developments in practices, processes, and control technologies that warrant revisions to the MACT standards for this source category. Therefore, we are not finalizing any revisions to the MACT standards under CAA section 112(d)(6).

C. What are the final rule amendments addressing emissions during periods of SSM?

The EPA is finalizing the proposed amendments to the Cellulose Products Manufacturing NESHAP to remove and revise provisions related to SSM. In its 2008 decision in Sierra Club v. EPA, 551 F.3d 1019 (D.C. Cir. 2008), the Court vacated portions of two provisions in the EPA's CAA section 112 regulations governing the emissions of HAP during periods of SSM. Specifically, the Court vacated the SSM exemption contained in 40 CFR 63.6(f)(1) and 40 CFR 63.6(h)(1), holding that under section 302(k) of the CAA, emissions standards or limitations must be continuous in nature and that the SSM exemption violates the CAA's requirement that some CAA section 112 standards apply continuously. As detailed in section IV.D of the preamble to the proposed rule (84 FR 47366, September 9, 2019), the EPA proposed to eliminate the SSM exemption in 40 CFR 63.5515(a) so that the Cellulose Products Manufacturing NESHAP would apply at all times (see 40 CFR 63.5515(a)), including during SSM events, consistent with the Court decision in Sierra Club v. EPA, 551 F. 3d 1019 (D.C. Cir. 2008). In addition to proposing that the SSM exemption be eliminated, we proposed to remove the requirement for sources to develop and maintain an SSM plan, as well as certain recordkeeping and reporting provisions related to the SSM exemption.

The EPA is finalizing the proposed revision of 40 CFR 63.5515(a) to eliminate the SSM exemption. The EPA is also finalizing the removal of the SSM exemption in 40 CFR 63.5555(d) that states deviations that occur during SSM events are not violations if a facility meets the general duty requirements. In addition, we are updating the references in Table 10 to Subpart UUUU of Part 63—Applicability of General Provisions to Subpart UUUU, including the references to 40 CFR 63.6(f)(1) and (h)(1)—the provisions vacated by Sierra Club v. EPA. Consistent with that decision, the standards in this rule will now apply at all times. We are also revising Table 10 to Subpart UUUU of Part 63 to change several references related to requirements that apply during periods of SSM. For example, we are eliminating the incorporation of the General Provisions' requirement that sources develop an SSM plan. We also are eliminating and revising certain recordkeeping and reporting requirements related to the SSM exemption.

The EPA did not propose separate standards for malfunctions. As discussed in section IV.D.1 of the September 9, 2019 proposal preamble, the EPA interprets CAA section 112 as not requiring emissions that occur during periods of malfunction to be factored into development of CAA section 112 standards, although the EPA has the discretion to set standards for malfunctions where feasible. For the MVP source category and the CEP source category, it is unlikely that a malfunction would result in a violation of the standards. Facilities using thermal oxidizers as pollution control equipment indicated in the 2018 information collection survey that interlocks shut down processes when an oxidizer malfunction occurs, and facilities may also have back-up oxidizers that could be used to treat the emissions. Refer to section IV.D.1 of the preamble to the proposed rule for further discussion of the EPA's rationale for the decision not to set standards for malfunctions, as well as a discussion of the actions a source could take in the unlikely event that a source fails to comply with the applicable CAA section 112(d) standards as a result of a malfunction event, given administrative and judicial procedures for addressing exceedances of the standards fully recognize that violations may occur despite good faith efforts to comply and can accommodate those situations.

As is explained in more detail below, the EPA is finalizing revisions to the Table 10 to Subpart UUUU of Part 63—Applicability of General Provisions to Subpart UUUU, to eliminate requirements that include rule language providing an exemption for periods of SSM. Additionally, we are finalizing our proposal to eliminate language related to SSM that treats periods of startup and shutdown the same as periods of malfunction, as explained further below. Finally, we are finalizing our proposal to revise reporting and record keeping requirements as they relate to malfunctions, as further described below. As discussed in the proposal preamble, these revisions are consistent with the requirement in 40 CFR 63.5515(a) that the standards apply at all times. Refer to section IV.C of this preamble for a detailed discussion of these amendments.

D. What other changes have been made to the NESHAP?

The EPA is finalizing new requirements for periodic emissions testing, electronic reporting, and biofilter effluent conductivity monitoring. The periodic emissions testing is part of an ongoing effort to improve compliance with various federal air emission regulations. The new provisions require facilities that use non-recovery control devices to conduct periodic air emissions performance testing, with the first of the periodic performance tests to be conducted within July 2, 2023, and thereafter no longer than 5 years following the previous test. The periodic emissions tests will ensure control devices are properly maintained over time, thereby reducing the potential for acute emissions episodes.

The electronic reporting provisions require owners and operators to submit all initial notifications, compliance notifications, performance test reports, performance evaluation reports, and semiannual reports electronically through the EPA's Central Data Exchange (CDX) using CEDRI. A description of the electronic data submission process is provided in the memorandum, Electronic Reporting Requirements for New Source Performance Standards (NSPS) and National Emission Standards for Hazardous Air Pollutants (NESHAP) Rules, available at Docket ID Item No. EPA-HQ-OAR-2018-0415-0058.

The new biofilter effluent conductivity monitoring will allow owners and operators the flexibility to monitor either conductivity or pH to determine continuous compliance of biofilter control devices with the standards.

In addition to these new requirements, we are also finalizing several technical and editorial corrections and incorporating by reference three test method standards, in accordance with the provisions of 1 CFR 51.5. For more information on these changes, see 84 FR 47370-47371, September 9, 2019.

E. What are the effective and compliance dates of the standards?

The revisions to the NESHAP being promulgated in this action are effective on July 2, 2020. For sources that commenced construction or reconstruction before the notice of proposed rulemaking was published on September 9, 2019, the deadline to comply with the amendments in this rulemaking is no later than 180 days after the effective date of the final rule. Affected sources that commenced construction or reconstruction after September 9, 2019, must comply with all of the requirements of the subpart, including the amendments, immediately upon the effective date of the standard, July 2, 2020, or upon startup, whichever is later.

Through our work with other similar industries required to convert to electronic reporting, the EPA has found a period of 180 days is generally necessary to successfully install necessary hardware and software; become familiar with the process of submitting performance test results electronically through the EPA's CEDRI; test these new electronic submission capabilities; and reliably employ electronic reporting. Our experience with similar industries has shown that facilities generally require a time period of 180 days to read and understand the amended rule requirements; evaluate their operations to ensure that they can meet the standards during SSM periods and make any necessary adjustments; adjust parameter monitoring and recording systems to accommodate revisions; and update their operations to reflect the revised requirements. Based on our assessment of the timeframe needed for facilities to comply with the amended rule, the EPA determined that a compliance date of within 180 days of the final rule's effective date was practicable. In the proposal, we solicited comment on whether the 180-day compliance period was reasonable and specifically requested sources provide information regarding the specific actions they would need to undertake to comply with the amended rule. We received no feedback on the proposed compliance deadlines. From our assessment of the timeframe needed for compliance with the entirety of the revised requirements, the EPA considers a period of 180 days to be the most expeditious compliance period practicable. Thus, all sources existing at the time the proposed rulemaking was published on September 9, 2019, must be in compliance with all of this regulation's revised requirements within 180 days of the regulation's effective date.

The final rule also requires sources that use a non-recovery control device to comply with the standards to conduct periodic performance tests every 5 years. Each source that commenced construction or reconstruction on or before September 9, 2019, and uses a non-recovery control device to comply with the standards must conduct the first periodic performance test on or before July 3, 2020, and conduct subsequent periodic performance tests no later than 5 years thereafter following the previous performance test. For each new and reconstructed affected source that commences construction or reconstruction after September 9, 2019, and uses a non-recovery control device to comply with the standards, the owners and operators must conduct the first periodic performance test no later than 5 years following the initial performance test required by 40 CFR 63.5535 and conduct subsequent periodic performance tests no later than 5 years thereafter following the previous performance test. We determined that a compliance date of 3 years for the first periodic performance test for sources constructed or reconstructed on or before September 9, 2019, was necessary to avoid scheduling issues that may arise as affected sources compete for a limited number of testing contractors.

IV. What is the rationale for our final decisions and amendments for the source category?

For each issue, this section provides a description of what we proposed and what we are finalizing for the issue, the EPA's rationale for the final decisions and amendments, and a summary of key comments and responses. For all comments not discussed in this preamble, comment summaries and the EPA's responses can be found in the comment summary and response document available in the docket, Docket ID No. EPA-HQ-OAR-2018-0415.

A. Residual Risk Review

1. Miscellaneous Viscose Processes

a. What did we propose pursuant to CAA section 112(f) for the source category?

The EPA estimated risks based on actual and allowable emissions from MVP sources subject to the Cellulose Products Manufacturing NESHAP. For the MVP source category, we estimated the chronic baseline inhalation cancer risk to be less than 1-in-1 million, with the risk driver being acetaldehyde emissions from viscose process equipment. The total estimated cancer incidence from MVP emission sources based on actual and allowable emission levels is 0.000006 excess cancer cases per year, or one case in every 167,000 years. Emissions of acetaldehyde contributed 100 percent to this cancer incidence. Based on actual and allowable emissions, no people are exposed to cancer risks greater than or equal to 1-in-1 million. The maximum chronic noncancer target organ-specific hazard index (TOSHI) values for the source category, based on actual and allowable emissions, are estimated to be less than 1. Based on actual and allowable emissions, CS2 emissions from viscose process equipment are the risk driver for respiratory risks. For the acute risk assessment, the maximum refined offsite acute noncancer hazard quotient (HQ) value for the MVP source category is less than 1 from CS2 emissions (based on the acute (1-hour) ERPG-1 for CS2). We proposed that environmental and multipathway risks are not an issue for the MVP source category because there are no HAP known to be persistent and bio-accumulative in the environment (PB-HAP), lead compounds, or acid gases (hydrochloric acid (HCl) or hydrogen flouride) identified in the emissions inventory. The assessment of facility-wide emissions indicated that none of the five MVP facilities have a facility-wide maximum individual cancer risk (MIR) greater than 1-in-1 million and the maximum facility-wide cancer risk is 1-in-1 million, driven by formaldehyde, cadmium compounds, and nickel compounds from a non-category fugitive area source. The total estimated facility-wide cancer incidence is 0.00006 excess cancer cases per year, or one case in every 16,700 years, with zero people estimated to have cancer risks greater than 1-in-1 million. The maximum facility-wide chronic noncancer TOSHI is estimated to be less than 1, driven by source category emissions of CS2 from viscose process equipment.

The risk assessment for this source category is contained in the report titled Residual Risk Assessment for the Miscellaneous Viscose Processes Source Category in Support of the 2020 Risk and Technology Review Final Rule, which can be found in the docket for this action (Docket ID No. EPA-HQ-OAR-2018-0415).

b. How did the risk review change for the source category?

The EPA has not made any changes to either the risk assessment or our determinations regarding risk acceptability, ample margin of safety, or adverse environmental effects for the MVP source category since the proposal was published on September 9, 2019. We are finalizing the risk review as proposed with no changes (84 FR 47346, September 9, 2019).

c. What key comments did we receive on the risk review, and what are our responses?

The EPA did not receive any comments specific to the MVP risk review and proposed results. We received comments from one commenter opposing our proposed risk assessment and determination that no revision to the standards is warranted under CAA section 112(f)(2). Generally, the commenter was not supportive of the acceptability and ample margin of safety determinations and suggested changes to the underlying risk assessment methodology. Examples of the commenter's suggested changes to the EPA's risk assessment methodology included lowering the presumptive limit of acceptability for cancer risks to below 100-in-1 million, including emissions outside of the source categories in question in the risk assessment, and assuming that pollutants with noncancer health risks have no safe level of exposure. The comments and information provided by the commenter did not change our risk analyses or the proposed results that risks from the MVP source category are acceptable and provide an ample margin of safety.

For detailed summaries and responses to comments, see the memorandum in the docket, National Emission Standards for Hazardous Air Pollutants: Cellulose Products Manufacturing (40 CFR part 63, subpart UUUU) Residual Risk and Technology Review, Final Amendments—Response to Public Comments on September 9, 2019 Proposal (Docket ID No. EPA-HQ-OAR-2018-0415).

d. What is the rationale for our final approach and final decisions for the risk review?

As noted in the proposal, the EPA sets standards under CAA section 112(f)(2) using “a two-step standard-setting approach, with an analytical first step to determine an `acceptable risk' that considers all health information, including risk estimation uncertainty, and includes a presumptive limit on MIR of `approximately 1-in-10 thousand' ” (see 54 FR 38045, September 14, 1989). We weigh all health risk factors in our risk acceptability determination, including the cancer MIR, cancer incidence, the maximum cancer TOSHI, the maximum acute noncancer HQ, the extent of noncancer risks, the distribution of cancer and noncancer risks in the exposed population, and the risk estimation uncertainties.

The EPA evaluated all of the comments on the risk review and determined that no changes to the review are needed. For the reasons explained in the proposal, we determined that the risks from the MVP source category are acceptable, and the current standards provide an ample margin of safety to protect public health and prevent an adverse environmental effect. Therefore, pursuant to CAA section 112(f)(2), we are finalizing our residual risk review as proposed.

2. Cellulose Ethers Production

a. What did we propose pursuant to CAA section 112(f) for the source category?

The EPA estimated risks based on actual and allowable emissions from CEP sources subject to the Cellulose Products Manufacturing NESHAP. For the source category, we estimated the chronic baseline inhalation cancer risk using current actual and allowable emissions to be 80-in-1 million with the risk driver being ethylene oxide emissions from cellulose ether process equipment used to produce HEC. The total estimated cancer incidence from CEP emission sources based on actual and allowable emission levels is 0.01 excess cancer cases per year, or one case in every 100 years. Emissions of ethylene oxide contributed 99 percent to this cancer incidence based on actual emissions. Based on actual or allowable emissions, 105,000 people are exposed to cancer risks greater than or equal to 1-in-1 million. The maximum chronic noncancer hazard index (TOSHI) values for the source category, based on actual and allowable emissions, are estimated to be less than 1. Based on actual and allowable emissions, respiratory risks are driven by chlorine emissions from cellulose ether process equipment. The maximum refined offsite acute noncancer HQ value for the source category is less than 1 from methanol emissions from cellulose ether process equipment (based on the acute (1-hour) reference exposure level for methanol). The highest HQ is based on an hourly emissions multiplier of 10 times the annual emissions rate. Acute HQs were not calculated for allowable or whole facility emissions. For the multipathway risk screening, one facility within the CEP source category reported emissions of multipathway pollutants of lead compounds, carcinogenic PB-HAP (arsenic), and noncarcinogenic PB-HAP (cadmium and mercury). Results of the worst-case Tier 1 screening analysis indicate that PB-HAP emissions (based on estimates of actual emissions) emitted from the facility exceeded the screening values for the carcinogenic PB-HAP (arsenic compounds) by a factor of 2, and for the noncarcinogenic PB-HAP (cadmium and mercury) is equal to the Tier 1 screening value of 1. Based on this Tier 1 screening assessment for carcinogens, the arsenic, cadmium, and mercury emission rates for the single facility are below our level of concern. The highest annual average lead concentration of 0.00001 milligrams per cubic meter is well below the National Ambient Air Quality Standard (NAAQS) for lead, indicating a low potential for multipathway impacts of concern due to lead. For the environmental risk screening, the three CEP facilities reported emissions of lead compounds, an acid gas (HCl), arsenic, cadmium, and mercury. In the Tier 1 screening analysis for PB-HAP, no exceedances of the ecological benchmarks evaluated were found. For lead, we did not estimate any exceedances of the secondary lead NAAQS. For HCl, the average modeled concentration around each facility (i.e., the average concentration of all off-site data points in the modeling domain) did not exceed any ecological benchmark. In addition, each individual modeled concentration of HCl (i.e., each off-site data point in the modeling domain) was below the ecological benchmarks for all facilities. Based on the results of the environmental risk screening analysis, we do not expect an adverse environmental effect as a result of HAP emissions from this source category. Results of the assessment of facility-wide emissions indicate that all three facilities modeled have a facility-wide MIR cancer risk greater than 1-in-1 million. The maximum facility-wide cancer risk is 500-in-1 million, mainly driven by ethylene oxide from sources outside the source category, including holding ponds, storage tanks, tank truck unloading, and equipment/vent releases. The next highest cancer risk was 80-in-1 million, based on whole facility emissions of ethylene oxide. The total estimated cancer incidence from the whole facility is 0.04 excess cancer cases per year, or one case in every 25 years, with 570,000 people estimated to have cancer risks greater than 1-in-1 million and 2,000 people with risks greater than 100-in-1 million. The maximum facility-wide chronic noncancer TOSHI is estimated to be equal to 4, driven by emissions of chlorine from non-category sources.

The risk assessment for this source category are contained in the report titled Residual Risk Assessment for the Cellulose Ethers Production Source Category in Support of the 2020 Risk and Technology Review Final Rule, which can be found in the docket for this action.

b. How did the risk review change for the source category?

The EPA did not make any changes to either the risk assessments or our determinations regarding risk acceptability, ample margin of safety, or adverse environmental effects for the CEP source category since the proposal was published on September 9, 2019. We are finalizing the residual risk review as proposed with no changes (84 FR 47346, September 9, 2019).

c. What key comments did we receive on the risk review, and what are our responses?

The EPA received one comment opposing our proposed risk assessment and determination that no revision to the standards for the CEP source category are warranted under CAA section 112(f)(2). Generally, the commenter was not supportive of the acceptability and ample margin of safety determinations and suggested changes to the underlying risk assessment methodology. The commenter asserted that changes to the EPA's risk assessment methodology were needed, including that the EPA should lower its presumptive limit of acceptability for cancer risks to below 100-in-1 million, include emissions outside of the source categories in question in the risk assessment, and assume that pollutants with noncancer health risks have no safe level of exposure. The commenter supported the proposal's use of the 2016 Integrated Risk Information System (IRIS) value for ethylene oxide. The comments and information provided by the commenter did not change our risk analyses or the proposed results that risks from the CEP source category are acceptable and provide an ample margin of safety.

For a detailed summary of the comments and our responses, see the memorandum in the docket, National Emission Standards for Hazardous Air Pollutants: Cellulose Products Manufacturing (40 CFR part 63, subpart UUUU) Residual Risk and Technology Review, Final Amendments—Response to Public Comments on September 9, 2019 Proposal.

d. What is the rationale for our final approach and final decisions for the risk review?

As noted in our proposal, the EPA sets standards under CAA section 112(f)(2) using “a two-step standard-setting approach, with an analytical first step to determine an `acceptable risk' that considers all health information, including risk estimation uncertainty, and includes a presumptive limit on MIR of `approximately 1-in-10 thousand' ” (see 54 FR 38045, September 14, 1989). We weigh all health risk factors in our risk acceptability determination, including the cancer MIR, cancer incidence, the maximum cancer TOSHI, the maximum acute noncancer HQ, the extent of noncancer risks, the distribution of cancer and noncancer risks in the exposed population, and the risk estimation uncertainties.

The EPA evaluated all of the comments on the risk review and determined that no changes to the review are needed. For the reasons explained in the proposal, we determined that the risk from the CEP source category is acceptable, and the current standards provide an ample margin of safety to protect public health and prevent an adverse environmental effect. Therefore, pursuant to CAA section 112(f)(2), we are finalizing our residual risk review as proposed.

B. Technology Review

1. Miscellaneous Viscose Processes

a. What did we propose pursuant to CAA section 112(d)(6) for the source category?

Pursuant to CAA section 112(d)(6), the EPA proposed to conclude that no revisions to the current MACT standards for the MVP source category are necessary (section IV.C of proposal preamble, 84 FR 47365, September 9, 2019). Based on the review, we did not identify any developments in practices, processes, or control technologies for the MVP source category, and, therefore, we did not propose any changes to the standards under CAA section 112(d)(6). Additional details of our technology review can be found in the memorandum, Technology Review for the Cellulose Products Manufacturing Industry—Proposed Rule (Docket ID Item No. EPA-HQ-OAR-2018-0415-0119).

b. How did the technology review change for the source category?

The EPA has not made any changes to the technology review for the MVP source category since the proposal was published on September 9, 2019. We are finalizing the technology review as proposed with no changes (84 FR 47346, September 9, 2019).

c. What key comments did we receive on the technology review, and what are our responses?

We received comments from one commenter that did not support the proposed determination from the technology review that no revisions were warranted under CAA section 112(d)(6). In general, the commenter claimed that the EPA failed to consider all HAP emitted by the source category and that the EPA should set new standards for previously unregulated emission points/pollutants as part of the technology review.

The EPA disagrees with the commenter's assertion that the EPA failed to consider all HAP emitted and that we should set new standards for previously unregulated emission points/pollutants as part of the technology review. CAA section 112(d)(6) requires the EPA to review and revise, as necessary (taking into account developments in practices, processes, and control technologies), emission standards promulgated under this section. The EPA reads CAA section 112(d)(6) as a limited provision requiring the Agency to, at least every 8 years, review the emission standards already promulgated in the NESHAP and to revise those standards as necessary, taking into account developments in practices, processes, and control technologies. Nothing in CAA section 112(d)(6) directs the Agency, as part of or in conjunction with the mandatory 8-year technology review, to develop new emission standards to address HAP or emission points for which standards were not previously promulgated. As shown by the statutory text and the structure of CAA section 112, CAA section 112(d)(6) does not impose upon the Agency any obligation to promulgate emission standards for previously unregulated emissions as part of the technology review.

When the EPA establishes standards for previously unregulated emissions, we do so pursuant to the provisions that govern initial standard setting—CAA sections 112(d)(2) and (3) or, if the prerequisites are met, CAA section 112(d)(4) or CAA section 112(h). Establishing emissions standards under these provisions of the CAA involves a different analytical approach from reviewing emissions standards under CAA section 112(d)(6).

Though the EPA has discretion to develop standards under CAA section 112(d)(2) through (4) and CAA section 112(h) for previously unregulated pollutants at the same time as the Agency completes the CAA section 112(d)(6) review, any such action would not be part of the CAA section 112(d)(6) review, and there is no obligation to undertake such actions at the same time as the CAA section 112(d)(6) review. Additionally, given the court-ordered deadline of March 13, 2020, we did not have sufficient time to analyze existing data, determine if additional data were needed, collect additional data, and develop new emission standards. Therefore, we are not establishing new standards for previously unregulated emissions as part of this rulemaking.

For detailed summaries and responses regarding the technology review, see the memorandum in the docket, National Emission Standards for Hazardous Air Pollutants: Cellulose Products Manufacturing (40 CFR part 63, subpart UUUU) Residual Risk and Technology Review, Final Amendments—Response to Public Comments on September 9, 2019 Proposal (Docket ID No. EPA-HQ-OAR-2018-0415).

d. What is the rationale for our final approach for the technology review?

The EPA evaluated all of the comments on the technology review and determined that no changes to the review are needed. Therefore, pursuant to CAA section 112(d)(6), we are finalizing our technology review as proposed. Additional details of our technology review can be found in the memorandum titled Technology Review for the Cellulose Products Manufacturing Industry, which is available in the docket for this action (Docket ID Item No. EPA-HQ-OAR-2018-0415-0119).

2. Cellulose Ethers Production

a. What did we propose pursuant to CAA section 112(d)(6) for the source category?

Pursuant to CAA section 112(d)(6), the EPA proposed to conclude that no revisions to the current MACT standards for the CEP source category are necessary (section IV.C of proposal preamble, 84 FR 47365, September 9, 2019). Our review of the developments in technology for the source category did not reveal any changes in practices, processes, and controls that warrant revisions to the emission standards. Based on our review, we did not identify any developments in practices, processes, or control technologies for the CEP source category, and, therefore, we did not propose any changes to the standards under CAA section 112(d)(6). Additional details of our technology review can be found in the memorandum, Technology Review for the Cellulose Products Manufacturing Industry—Proposed Rule (Docket ID Item No. EPA-HQ-OAR-2018-0415-0119).

b. How did the technology review change for the source category?

The EPA has not made any changes to the technology review for the CEP source category since the proposal was published on September 9, 2019. We are finalizing the technology review as proposed with no changes (84 FR 47346, September 9, 2019).

c. What key comments did we receive on the technology review, and what are our responses?

The EPA received comments from one commenter that did not support the proposed determination from the technology review that no revisions were warranted under CAA section 112(d)(6). In general, the commenter claimed that the EPA failed to consider all HAP emitted and that the EPA should set new standards for previously unregulated emission points/pollutants as part of the technology review. The commenter also claimed that the EPA did not consider leak detection and repair, fenceline monitoring, process changes, dry sorbent injection, or spray dryer absorbers as part of the technology review.

The EPA disagrees with the commenter's assertion that the EPA failed to consider all HAP emitted and that we should set new standards for previously unregulated emission points/pollutants as part of the technology review. See the discussion of this topic in section IV.B.1.c of this preamble.

The EPA also disagrees with the commenter's assertion that the EPA failed to consider leak detection and repair, fenceline monitoring, process changes, dry sorbent injection, or spray dryer absorbers as part of the technology review. The Agency did consider these options but found that they were not appropriate for the CEP emission sources. See the comment response document, National Emission Standards for Hazardous Air Pollutants: Cellulose Products Manufacturing (40 CFR part 63, subpart UUUU) Residual Risk and Technology Review, Final Amendments—Response to Public Comments on September 9, 2019 Proposal, for more details.

d. What is the rationale for our final approach for the technology review?

We evaluated all of the comments on the technology review and determined that no changes to the review are needed. Therefore, pursuant to CAA section 112(d)(6), we are finalizing our technology review as proposed. Additional details of our technology review can be found in the memorandum titled Technology Review for the Cellulose Products Manufacturing Industry, which is available in the docket for this action (Docket ID Item No. EPA-HQ-OAR-2018-0415-0119).

C. Removal of the SSM Exemption

1. What did we propose?

The EPA proposed amendments to the Cellulose Product Manufacturing NESHAP to remove the provisions related to SSM that are not consistent with the requirement that the standards apply at all times. The proposed amendments included:

• Revising Table 10 (General Provisions) entry for 40 CFR 63.6(e)(1) and (2) by redesignating it as 40 CFR 63.6(e)(1)(i) and changing the “yes” in column 4 to a “no” and adding general duty regulatory text to 40 CFR 63.5515 that reflect the general duty to minimize emissions included in 40 CFR 63.6(e)(1) without the references to SSM;

• revising Table 10 by adding an entry for 40 CFR 63.6(e)(1)(ii) and including a “no” in column 4 because 40 CFR 63.6(e)(1)(ii) imposes requirements that are not necessary with the elimination of the SSM exemption or are redundant with the general duty requirement being added at 40 CFR 63.5515;

• removing the SSM plan requirements by changing the Table 10 entry for 40 CFR 63.6(e)(3) from “yes” in column 4 to “no”;

• revising the compliance standards in Table 10 by changing the entry for 40 CFR 63.6(f)(1) from “yes” to “no,” redesignating 40 CFR63.6(h) as 40 CFR 63.6(h)(1), and changing the “yes” to “no” in column 4;

• revising the performance testing requirements in Table 10 by changing the entry for 40 CFR 63.7(e)(1) from “yes” in column 4 to a “no” and revising 40 CFR 63.5535(b) and 40 CFR 63.5535(c) to specify the conditions under which performance tests should be completed;

• revising the monitoring requirements entries in Table 10 for 40 CFR 63.8(c)(1)(i) and (iii) by changing the “yes” in column 4 to “no” and revising 40 CFR 63.5545(b)(1) to specify the ongoing operation and maintenance procedures;

• adding a new entry to Table 10 for 40 CFR 63.8(d)(3) with a “no” entered in column 4 and adding the language in 40 CFR 63.8(d)(3) to Table 9 except that the final sentence is replaced with the following: “The program of corrective action should be included in the plan required under 40 CFR 63.8(d)(2).”;

• revising the recordkeeping requirements in Table 10 by redesignating the entries for 40 CFR 63.10(b)(2)(i) through (iv) as 40 CFR 63.10(b)(2)(i) and changing the “yes” in column 4 to a “no” and revising the recordkeeping requirements to Table 9 to clarify what records are required for SSM events;

• adding an entry for 40 CFR 63.10(b)(2)(ii) to Table 10 and including a “no” in column 4 and adding text to Table 9 that is similar to 40 CFR 63.10(b)(2)(ii) that describes the recordkeeping requirements during a malfunction;

• revising the recordkeeping provisions by adding entries for 40 CFR 63.10(b)(2)(iv), 40 CFR 63.10(b)(2)(v), and 40 CFR 63.10(c)(15) to Table 10 and adding “no” in column 4 for each new entry;

• revising the entry for 40 CFR 63.10(d)(5) in Table 10 by redesignating it as 40 CFR 63.10(d)(5)(i) and changing the “yes” in column 4 to a “no”;

• adding reporting requirements to 40 CFR 63.5580 and Table 8 to eliminate periodic SSM reports as a stand-alone report and require sources that fail to meet an applicable standard at any time to report the number, date, time, duration, list of affected source or equipment, estimate of the quantity of each regulated pollutant emitted, a description of the method used to estimate the emissions, and the cause of such events in the semiannual compliance report already required under this rule; and

• revising the reporting requirements in Table 10 by adding an entry for 40 CFR 63.10(d)(5)(ii) and including a “no” in column 4.

More information concerning the elimination of SSM provisions is in the preamble to the proposed rule (84 FR 47366-47370, September 9, 2019).

2. What changed since proposal?

We are finalizing the removal of the SSM exemption as proposed with no changes (84 FR 47346, September 9, 2019).

3. What are the key comments and what are our responses?

Only one commenter submitted comments related to our proposed removal of the SSM exemption, and their comments generally supported the proposed removal of the SSM provisions but stated that the EPA cannot finalize a malfunction exemption, as proposed. The Agency did not propose a malfunction exemption in this rulemaking, therefore, this portion of the comment was not relevant. We evaluated the comments and determined that no changes to the proposed SSM provisions are warranted. A summary of these comments and our responses are located in the memorandum titled National Emission Standards for Hazardous Air Pollutants: Cellulose Products Manufacturing (40 CFR part 63, subpart UUUU) Residual Risk and Technology Review, Final Amendments—Response to Public Comments on September 9, 2019 Proposal, in the docket for this rulemaking.

4. What is the rationale for our final approach for the SSM provisions?

The EPA evaluated all comments on the EPA's proposed amendments to remove the SSM exemption. For the reasons explained in the proposed rule, we determined that the proposed amendments remove and revise provisions related to SSM that are not consistent with the requirement that the standards apply at all times. More information concerning the amendments we are finalizing for SSM is in the preamble to the proposed rule (84 FR 47366-47370, September 9, 2019). We are finalizing our approach for removing the SSM exemption as proposed.

D. Five-Year Periodic Emissions Testing

1. What did we propose?

The EPA proposed to add new requirements for periodic performance testing at 40 CFR 63.5535(g)(1), 40 CFR 63.5535(h)(1), and 40 CFR 63.5541 for facilities that use non-recovery control devices. We proposed that facilities constructed or reconstructed on or before September 9, 2019, conduct periodic air emissions performance testing every 5 years, with the first periodic performance test to be conducted within 3 years of the effective date of the revised standards and thereafter every 5 years following the previous test. For facilities that commence construction after September 9, 2019, we proposed a periodic performance test be completed within 5 years of the initial performance required by 40 CFR 63.5535 and that subsequent tests be conducted every 5 years thereafter.

2. What changed since proposal?

We are finalizing the 5-year periodic emission testing requirements for facilities that use non-recovery control devices as proposed with no changes (84 FR 47346, September 9, 2019).

3. What are the key comments and what are our responses?

We did not receive any comments on the proposed 5-year periodic emission testing requirements for facilities that use non-recovery control devices.

4. What is the rationale for our final approach for the 5-year periodic emission testing?

For the reasons explained in the preamble to the proposed rule and taking into account the fact that the EPA received no comments relating to the proposed provisions, we are finalizing the requirement for facilities that use non-recovery control devices to conduct periodic emissions tests once every 5 years. The new performance tests will serve as a check on the accuracy of facilities' mass balance calculations and on the efficiency of the control devices used to achieve compliance with the standards. The new performance testing will ensure that control devices are properly maintained over time, thereby reducing the potential for acute emissions episodes.

E. Electronic Reporting

1. What did we propose?

The EPA proposed amendments to the Cellulose Products Manufacturing NESHAP to require owners and operators of MVP and CEP facilities to submit electronic copies of initial notifications, notifications of compliance status, performance test reports, performance evaluation reports, and semiannual reports through the EPA's CDX using CEDRI. Additionally, we proposed two broad circumstances in which electronic reporting extensions may be provided at the discretion of the Administrator. The EPA proposed these extensions to protect owners and operators from noncompliance in cases where they are unable to successfully submit a report by the reporting deadline for reasons outside of their control, including CDX and CEDRI outages and force majeure events, such as acts of nature, war, or terrorism.

2. What changed since proposal?

No changes have been made to the proposed requirement for owners and operators of MVP and CEP facilities to submit initial notifications, notifications of compliance status, performance test reports, performance evaluation reports, and semiannual reports electronically using CEDRI. Therefore, we are finalizing the electronic reporting provisions as proposed with no changes (84 FR 47346, September 9, 2019).

3. What are the key comments and what are our responses?

The EPA received one comment supporting the proposed amendment to require electronic reporting. The commenter, however, asserted that the force majeure language should be removed. The commenter expressed concern that proposed 40 CFR 63.5420(c)(5) provides an exemption from reporting due to force majeure events. The commenter noted that the Court rejected similar “affirmative defense” to civil penalties for malfunctions (NRDC v. EPA, 749 F.3d 1055 (D.C. Cir. 2014)). The commenter also argued that adding such an exemption would be arbitrary and unlawful because it would undermine the reporting requirements by providing a justification to delay reporting, and, thus, undermine compliance, enforcement, and fulfillment of the emissions standards designed to protect public health and the environment at the core of the CAA's and section 7412's purpose (42 U.S.C. 740).

The commenter is incorrect in referring to 40 CFR 63.5420(c)(5) as an “exemption.” This provision provides instructions for actions an affected source should take if it is unable to submit an electronic report (required under 40 CFR 63.5420(c)) “due to a force majeure event that is about to occur, occurs, or has occurred, or if there are lingering effects from such an event within the period of time beginning 5 business days prior to the date the submission is due” under 40 CFR 63.5420(c). We note that there is no exception or exemption to reporting, only a method for requesting an extension of the reporting deadline. As specified in 40 CFR 63.5420(c)(5), “[t]he decision to accept the claim of force majeure and allow an extension to the reporting deadline is solely within the discretion of the Administrator.” There is no predetermined timeframe for the length of extension that can be granted, as this is something best determined by the Administrator when reviewing the circumstances surrounding the request. Different circumstances may require a different length of extension for electronic reporting. For example, a tropical storm may delay electronic reporting for a day, but a category 5 hurricane event may delay electronic reporting much longer, especially if the facility has no power, and, as such, the owner or operator has no ability to access electronically stored data or to submit reports electronically. The Administrator will be the most knowledgeable on the events leading to the request for extension and will assess whether an extension is appropriate and, if so, determine a reasonable length. The Administrator may even request that the report be sent in hardcopy until electronic reporting can be resumed. While no new fixed duration deadline is set, the regulation does require that the report be submitted electronically as soon as possible after the CEDRI outage is resolved or after the force majeure event occurs.

We also note that the force majeure mimics long-standing language in 40 CFR 63.7(a)(4) and 60.8(a)(1) regarding the time granted for conducting a performance test and such language has not undermined compliance or enforcement.

Moreover, we disagree that the reporting extension will undermine enforcement because the Administrator has full discretion to accept or reject the claim of a CEDRI system outage or force majeure. As such, an extension is not automatic and is agreed to on an individual basis by the Administrator. If the Administrator determines that a facility has not acted in good faith to reasonably report in a timely manner, the Administrator can reject the claim and find that the failure to report timely is a deviation from the regulation. CEDRI system outages are infrequent, but the EPA knows when they occur and whether a facility's claim is legitimate. Force majeure events (e.g., natural disasters impacting a facility) are also usually well-known events.

We also disagree that the ability to request a reporting extension would undermine compliance and fulfillment of the emissions standards. While reporting is an important mechanism for the EPA and air agencies to assess whether owners or operators are in compliance with emissions standards, reporting obligations have nothing to do with whether an owner or operator is required to be in compliance with an emissions standard, especially where the deadline for meeting the standard has already passed and the owner or operator has certified that they are in compliance with the standard.

Additionally, the ability to request a reporting extension does not apply to a broad category of circumstances; on the contrary, the scope for submitting a reporting extension request is very limited in that claims can only be made for events outside of the owner's or operator's control that occur in the 5 business days prior to the reporting deadline. The claim must then be approved by the Administrator, and, in approving such a claim, the Administrator agrees that something outside the control of the owner or operator prevented the owner or operator from meeting its reporting obligation. In no circumstance does this reporting extension allow for the owner or operator to be out of compliance with the emissions standards.

The reporting deadline extension differs from the affirmative defense to civil penalties for malfunctions the Court vacated as beyond the EPA's authority under the CAA in NRDC v. EPA, 749 F.3d 1055 (D.C. Cir. 2014). Unlike the affirmative defense addressed in NRDC, the reporting provision does not address penalty liability for noncompliance with emission standards, but merely addresses, under a narrow set of circumstances outside the control of the facilities, the deadline for reporting.

A detailed summary of these comments and our responses are located in the memorandum titled National Emission Standards for Hazardous Air Pollutants: Cellulose Products Manufacturing (40 CFR part 63, subpart UUUU) Residual Risk and Technology Review, Final Amendments—Response to Public Comments on September 9, 2019 Proposal, in the docket for this rulemaking (Docket ID No. EPA-HQ-OAR-2018-0415).

4. What is the rationale for our final approach to electronic reporting?

The EPA is finalizing, as proposed, a requirement that owners or operators of MVP and CEP facilities submit electronic copies of notifications, performance evaluation reports, and semiannual compliance reports using CEDRI. We also are finalizing, as proposed, provisions that allow facility owners or operators a process to request extensions for submitting electronic reports for circumstances beyond the control of the facility (i.e., for a possible outage in the CDX or CEDRI or for a force majeure event). The amendments will increase the ease and efficiency of data submittal for owners and operators of MVP and CEP facilities and will make the data more accessible to regulators and the public.

F. Changes to the Monitoring Requirements for Biofilter Control Devices

1. What did we propose?

The EPA proposed revisions to the operating limits in Table 2 to Subpart UUUU of Part 63 to add biofilter effluent conductivity to the list of biofilter operating limits, revisions to the performance testing requirements in 40 CFR 63.5535(i)(7) to add biofilter effluent conductivity to the list of parameters for which operating limits must be established during the compliance demonstration, and revisions to the continuous compliance with operating limits in Table 6 to Subpart UUUU of Part 63 to add biofilter effluent conductivity to the list of parameters to monitor to demonstrate continuous compliance.

2. What changed since proposal?

The EPA has not made any changes to the proposed amendments to include biofilter effluent conductivity monitoring provisions since publication of the proposal on September 9, 2019. We are finalizing the alternative monitoring provisions as proposed with no changes (84 FR 47346, September 9, 2019).

3. What are the key comments and what are our responses?

No comments were received on the proposed addition of biofilter effluent conductivity monitoring provisions.

4. What is the rationale for our final approach to monitoring of biofilter control devices?

The EPA is finalizing the proposed revisions to allow monitoring of biofilter effluent conductivity as an alternative to effluent pH for biofilter control devices. As we explained in the proposal, the EPA has conditionally approved an alternative monitoring request from one company to use conductivity in lieu of pH monitoring pursuant to 40 CFR 63.8(f). The company's request stated that conductivity would provide a more accurate operating limit than pH for strong acids and bases. To allow other sources the flexibility to use conductivity for monitoring of biofilter control devices without the need to request approval for each source, we have finalized the changes as described in the proposal.

G. IBR Under 1 CFR Part 51 for the Cellulose Products Manufacturing NESHAP

1. What did we propose?

In accordance with requirements of 1 CFR 51.5, the EPA proposed to IBR the following documents into 40 CFR 63.14:

• ASTM D6420-99 (Reapproved 2010), Standard Test Method for Determination of Gaseous Organic Compounds by Direct Interface Gas Chromatography-Mass Spectrometry, IBR approved for Table 4 to Subpart UUUU of Part 63;

• ASTM D5790-95 (Reapproved 2012), Standard Test Method for Measurement of Purgeable Organic Compounds in Water by Capillary Column Gas Chromatography/Mass Spectrometry, IBR approved for Table 4 to Subpart UUUU of Part 63; and

• ASTM D6348-12e1, Standard Test Method for Determination of Gaseous Compounds by Extractive Direct Interface Fourier Transform Infrared (FTIR) Spectroscopy, IBR approved for Table 4 to Subpart UUUU of Part 63.

2. What changed since proposal?

The EPA has not made any changes to its proposal to IBR the documents listed above. We are incorporating these documents by reference into 40 CFR 63.14 as proposed (84 FR 47346, September 9, 2019). We have also included an IBR for ASTM D6348-03, Standard Test Method for Determination of Gaseous Compounds by Extractive Direct Interface Fourier Transform Infrared (FTIR) Spectroscopy, in this rulemaking. It was determined that the appendices in this method were needed for use with the ASTM D6348-12e1 method.

3. What are the key comments and what are our responses?

No comments were received on the proposed IBR of the standards into 40 CFR 63.14.

4. What is the rationale for our amendments?

In the proposal, we proposed regulatory text that included IBR. In accordance with requirements of 1 CFR 51.5, we have finalized as proposed the IBR of the four documents listed in sections IV.E.1 and IV.E.2 of this preamble.

H. Technical and Editorial Changes for the Cellulose Products Manufacturing NESHAP

1. What did we propose?

The EPA proposed the following technical and editorial changes:

• Add a new paragraph at 40 CFR 63.5505(f) to clarify that CS2 storage tanks that are part of a submerged unloading and storage operation subject to 40 CFR part 63, subpart UUUU, are not subject to 40 CFR part 60, subpart Kb;

• revise the performance test requirements in 40 CFR 63.5535 to specify the conditions for conducting performance tests;

• revise the performance evaluation requirements in 40 CFR 63.5545(e)(2) to specify the use of Procedure 1 of 40 CFR part 60, appendix F for quality assurance procedures;

• revise the performance test requirements table (Table 4 to Subpart UUUU of Part 63) to correct an error in the reference to a test method appendix;

• revise the performance test requirements table (Table 4 to Subpart UUUU of Part 63) to add IBR for ASTM D6420-99 (Reapproved 2010), ASTM D5790-95 (Reapproved 2012), and ASTM D6348-12e1;

• revise the reporting requirements in 40 CFR 63.5580 and the reporting and recordkeeping requirements tables (Tables 8 and 9 to Subpart UUUU of Part 63) to include the requirements to record and report information on failures to meet the applicable standard and the corrective actions taken; and

• revise the General Provisions applicability table (Table 10 to Subpart UUUU of Part 63) to align with those sections of the General Provisions that have been amended or reserved over time.

2. What changed since proposal?

We are finalizing the technical and editorial changes as proposed with no changes (84 FR 47346, September 9, 2019).

3. What are the key comments and what are our responses?

No comments were received on the proposed technical and editorial corrections.

4. What is the rationale for our final approach?

We are finalizing the technical and editorial changes as proposed for the reasons stated in section IV.E.6 of the proposal preamble.

V. Summary of Cost, Environmental, and Economic Impacts and Additional Analyses Conducted

A. What are the affected facilities?

There are currently eight facilities operating in the United States that conduct MVP and CEP operations that are subject to the Cellulose Products Manufacturing NESHAP. The 40 CFR part 63, subpart UUUU affected source for the MVP source category is each cellulose food casing, rayon, cellulosic sponge, or cellophane operation, as defined in 40 CFR 63.5610. The affected source for the CEP source category is each cellulose ether operation, as defined in 40 CFR 63.5610.

B. What are the air quality impacts?

The EPA estimates that annual HAP emissions from the MVP and CEP facilities that are subject to the NESHAP are approximately 4,300 tpy. We are not establishing new emission limits and are not requiring additional controls; therefore, no quantifiable air quality impacts are expected as a result of the final amendments to the rule. However, the final amendments, including the removal of the SSM exemption and addition of periodic emissions testing, have the potential to reduce excess emissions from sources by ensuring proper operation of control devices.

The final amendments will have no effect on the energy needs of the affected facilities and, therefore, have no indirect or secondary air emissions impacts.

C. What are the cost impacts?

The eight facilities subject to the final amendments will incur minimal net costs to meet the revised recordkeeping and reporting requirements and will incur periodic emissions testing costs for add-on control devices. The nationwide costs associated with the new periodic testing requirements are estimated to be $490,000 (2018$) over the 5 years following promulgation of the amendments. For further information on the costs, see the memorandum titled Costs and Environmental Impacts of Regulatory Options for the Cellulose Products Manufacturing Industry, and the document titled Supporting Statement for the NESHAP for Cellulose Products Manufacturing (40 CFR part 63, subpart UUUU), which are both available in the docket for this final rule (Docket ID No. EPA-HQ-OAR-2018-0415).

D. What are the economic impacts?

The final revisions to the Cellulose Products Manufacturing NESHAP have some costs associated with the periodic testing requirements and these costs are not expected to have significant economic impacts.

E. What are the benefits?

The final amendments will result in improved monitoring, compliance, and implementation of the rule by adding provisions for periodic emissions testing, requiring MVP and CEP facilities to meet the same emission standards during SSM events as during normal operations, and requiring electronic submittal of initial notifications, performance test results, and semiannual reports. These improvements will further assist in the protection of public health and the environment. The electronic reporting requirements will improve data availability and ultimately result in less burden on the regulated community.

F. What analysis of environmental justice did we conduct?

Executive Order 12898 (59 FR 7629, February 16, 1994) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

To examine the potential for any environmental justice issues that might be associated with the Cellulose Products Manufacturing NESHAP, we performed a demographic analysis for the MVP and CEP source categories, which is an assessment of risks to individual demographic groups of the populations living within 5 kilometers (km) and within 50 km of the facilities. In each analysis, we evaluated the distribution of HAP-related cancer and noncancer risks from the MVP and CEP source categories across different demographic groups within the populations living near facilities.⁴

⁴ Demographic groups included in the analysis are: White, African American, Native American, other races and multiracial, Hispanic or Latino, children 17 years of age and under, adults 18 to 64 years of age, adults 65 years of age and over, adults without a high school diploma, people living below the poverty level, people living two times the poverty level, and linguistically isolated people.

For the MVP source category, we determined that no one is exposed to a cancer risk at or above 1-in-1 million or to a chronic noncancer TOSHI greater than 1. The methodology and the results of the MVP demographic analysis are presented in a technical report, Risk and Technology Review—Analysis of Demographic Factors for Populations Living Near Miscellaneous Viscose Processes Facilities, available in the docket for this action.

For the CEP source category, the results of the demographic analysis indicate that emissions from the source category expose approximately 104,572 people to a cancer risk at or above 1-in-1 million and approximately zero people to a chronic noncancer TOSHI greater than 1. The percentages of the at-risk population in three demographic groups (African American, above poverty level, and over 25 without high school diploma) are greater than their respective nationwide percentages. The methodology and the results of the CEP demographic analysis are presented in the technical report, Risk and Technology Review—Analysis of Demographic Factors for Populations Living Near Cellulose Ethers Production Facilities, available in the docket for this action (Docket ID No. EPA-HQ-OAR-2018-0415).

G. What analysis of children's environmental health did we conduct?

The EPA does not believe the environmental health or safety risks addressed by this action present a disproportionate risk to children. The health and risk assessments for this action are contained in two reports titled Residual Risk Assessment for the Miscellaneous Viscose Processes Source Category in Support of the 2020 Risk and Technology Review Final Rule and Residual Risk Assessment for the Cellulose Ethers Production Source Category in Support of the 2020 Risk and Technology Review Final Rule, which can be found in the docket for this action.

VI. Statutory and Executive Order Reviews

Additional information about these statutes and Executive Orders can be found at https://www.epa.gov/laws-regulations/laws-and-executive-orders.

A. Executive Orders 12866: Regulatory Planning and Review and Executive Order 13563: Improving Regulation and Regulatory Review

This action is not a significant regulatory action and was, therefore, not submitted to the Office of Management and Budget (OMB) for review.

B. Executive Order 13771: Reducing Regulations and Controlling Regulatory Costs

This action is not an Executive Order 13771 regulatory action because this action is not significant under Executive Order 12866.

C. Paperwork Reduction Act (PRA)

The information collection activities in this rule have been submitted for approval to the OMB under the PRA. The Information Collection Request (ICR) document that the EPA prepared has been assigned EPA ICR number 1974.11. You can find a copy of the ICR in the docket for this rule, and it is briefly summarized here. The information collection requirements are not enforceable until OMB approves them.

We are finalizing changes to the recordkeeping and reporting requirements for 40 CFR part 63, subpart UUUU, which eliminate the SSM reporting and SSM plan requirements, add periodic emissions testing, provide biofilter effluent conductivity as an alternative to monitoring pH, and require electronic submittal of notifications, semiannual reports, and performance test reports.

Respondents/affected entities: Respondents include facilities subject to the NESHAP for Cellulose Products Manufacturing (40 CFR part 63, subpart UUUU).

Respondent's obligation to respond: Mandatory (40 CFR part 63, subpart UUUU).

Estimated number of respondents: Eight.

Frequency of response: Initial notifications, reports of periodic performance tests, and semiannual compliance reports.

Total estimated burden: 7,256 labor hours (per year). Burden is defined at 5 CFR 1320.3(b).

Total estimated cost: $954,000 per year, including $834,000 per year in labor costs and $120,000 per year in annualized capital or operation and maintenance costs.

An agency may not conduct or sponsor, and a person is not required to respond to, a collection of information unless it displays a currently valid OMB control number. The OMB control numbers for the EPA's regulations in 40 CFR are listed in 40 CFR part 9. When OMB approves this ICR, the Agency will announce that approval in the Federal Register and publish a technical amendment to 40 CFR part 9 to display the OMB control number for the approved information collection activities contained in this final rule.

D. Regulatory Flexibility Act (RFA)

I certify that this action will not have a significant economic impact on a substantial number of small entities under the RFA. There are no small entities in this regulated industry and, as such, this action will not impose any requirements on small entities.

E. Unfunded Mandates Reform Act (UMRA)

This action does not contain an unfunded mandate of $100 million or more as described in UMRA, 2 U.S.C. 1531-1538, and does not significantly or uniquely affect small governments. The action imposes no enforceable duty on any state, local, or tribal governments, or the private sector.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications as specified in Executive Order 13175. None of the facilities known to be engaged in the manufacture of cellulose products that would be affected by this action are owned or operated by tribal governments or located within tribal lands. Thus, Executive Order 13175 does not apply to this action.

H. Executive Order 13045: Protection of Children From Environmental Health Risks and Safety Risks

This action is not subject to Executive Order 13045 because it is not economically significant as defined in Executive Order 12866, and because the EPA does not believe the environmental health or safety risks addressed by this action present a disproportionate risk to children. This action's health and risk assessments are contained in sections III.A and IV.A of this preamble. Further documentation is provided in the following risk reports titled Residual Risk Assessment for the Miscellaneous Viscose Processes Source Category in Support of the 2020 Risk and Technology Review Final Rule and Residual Risk Assessment for the Cellulose Ethers Production Source Category in Support of the 2020 Risk and Technology Review Final Rule, which can be found in the docket for this action.

I. Executive Order 13211: Actions Concerning Regulations That Significantly Affect Energy Supply, Distribution, or Use

This action is not subject to Executive Order 13211 because it is not a significant regulatory action under Executive Order 12866.

J. National Technology Transfer and Advancement Act (NTTAA) and 1 CFR Part 51

This action involves technical standards. The EPA has decided to use three voluntary consensus standards (VCS). ASTM D6420-99 (Reapproved 2010), “Standard Test Method for Determination of Gaseous Organic Compounds by Direct Interface Gas Chromatography-Mass Spectrometry,” is used for the measurement of toluene and total organic HAP. This method employs a direct interface gas chromatograph/mass spectrometer to identify and quantify the 36 volatile organic compounds (VOC) (or sub-set of these compounds) listed on the ASTM website. This ASTM standard has been approved by the EPA as an alternative to EPA Method 18 when the target compounds are all known, and the target compounds are all listed in ASTM D6420 as measurable.

ASTM D5790-95 (Reapproved 2012), “Standard Test Method for Measurement of Purgeable Organic Compounds in Water by Capillary Column Gas Chromatography/Mass Spectrometry,” identifies and measures purgeable VOC. It has been validated for treated drinking water, wastewater, and groundwater. ASTM D5790-95 is acceptable as an alternative to EPA Method 624 and for the analysis of total organic HAP in wastewater samples. For wastewater analyses, this ASTM method should be used with the sampling procedures of EPA Method 25D or an equivalent method in order to be a complete alternative. This ASTM standard is validated for all of the 21 volatile organic HAP (including toluene) targeted by EPA Method 624 and is also validated for an additional 14 HAP not targeted by the EPA method.

ASTM D6348-12e1, “Determination of Gaseous Compounds by Extractive Direct Interface Fourier Transform Infrared (FTIR) Spectroscopy,” is an acceptable alternative to using EPA Method 320 with caveats requiring inclusion of selected annexes to the standard as mandatory. This test method provides the volume concentration of detected analytes. Converting the volume concentration to a mass emission rate using the compound's molecular weight, and the effluent volumetric flow rate, temperature, and pressure is useful for determining the impact of that compound to the atmosphere. When using ASTM D6348-12e, the following conditions must be met: (1) The test plan preparation and implementation in the Annexes to ASTM D 6348-03, Sections A1 through A8 are mandatory; and (2) in ASTM D6348-03, Annex A5 (Analyte Spiking Technique), the percent recovery (%R) must be determined for each target analyte (Equation A5.5). For the test data to be acceptable for a compound, %R must be greater than or equal to 70 percent and less than or equal to 130 percent. If the %R value does not meet this criterion for a target compound, the test data are not acceptable for that compound and the test must be repeated for that analyte (i.e., the sampling and/or analytical procedure should be adjusted before a retest). The %R value for each compound must be reported in the test report, and all field measurements must be corrected with the calculated %R value for that compound by using the following equation: Reported Results = ((Measured Concentration in the Stack)/(%R)) × 100.

These four ASTM standards are available from ASTM International, 100 Barr Harbor Drive, Post Office Box C700, West Conshohocken, PA 19428-2959. See https://www.astm.org/.

While the EPA identified 14 other VCS as being potentially applicable, the Agency has decided not to use them. The use of these VCS would not be practical due to lack of equivalency, documentation, validation date, and other important technical and policy considerations. For further information, see the memorandum titled Voluntary Consensus Standard Results for National Emission Standards for Hazardous Air Pollutants for Cellulose Products Manufacturing, in the docket for this action (Docket ID Item No. EPA-HQ-OAR-2018-0415-0059).

K. Executive Order 12898: Federal Actions To Address Environmental Justice in Minority Populations and Low-Income Populations

The EPA believes that this action does not have disproportionately high and adverse human health or environmental effects on minority populations, low income populations, and/or indigenous peoples, as specified in Executive Order 12898 (59 FR 7629, February 16, 1994). The documentation for this decision is contained in the technical reports titled Risk and Technology Review—Analysis of Demographic Factors for Populations Living Near Miscellaneous Viscose Processes Facilities and Risk and Technology Review—Analysis of Demographic Factors for Populations Living Near Cellulose Ethers Production Facilities, which are located in the public docket for this action.

L. Congressional Review Act (CRA)

This action is subject to the CRA, and the EPA will submit a rule report to each House of the Congress and to the Comptroller General of the United States. This action is not a “major rule” as defined by 5 U.S.C. 804(2).

List of Subjects in 40 CFR Part 63

Environmental protection, Administrative practice and procedures, Air pollution control, Hazardous substances, Incorporation by reference, Intergovernmental relations, Reporting and recordkeeping requirements.

Dated: March 11, 2020.
Andrew R. Wheeler,
Administrator.

For the reasons set forth in the preamble, the EPA amends 40 CFR part 63 as follows:

PART 63—NATIONAL EMISSION STANDARDS FOR HAZARDOUS AIR POLLUTANTS FOR SOURCE CATEGORIES

1. The authority citation for part 63 continues to read as follows:

Authority: 42 U.S.C. 7401 et seq.

Subpart A—General Provisions

2. Section 63.14 is amended by revising paragraphs (h)(72), (83), (85), (89), and (91) to read as follows:

§ 63.14 Incorporations by reference.

* * * * *

(h) * * *

(72) ASTM D5790-95 (Reapproved 2012), Standard Test Method for Measurement of Purgeable Organic Compounds in Water by Capillary Column Gas Chromatography/Mass Spectrometry, IBR approved for Table 4 to subpart UUUU.

* * * * *

(83) ASTM D6348-03, Standard Test Method for Determination of Gaseous Compounds by Extractive Direct Interface Fourier Transform Infrared (FTIR) Spectroscopy, including Annexes A1 through A8, Approved October 1, 2003, IBR approved for §§ 63.457(b), 63.1349, Table 4 to subpart DDDD, table 4 to subpart UUUU, table 4 subpart ZZZZ, and table 8 to subpart HHHHHHH.

* * * * *

(85) ASTM D6348-12e1, Standard Test Method for Determination of Gaseous Compounds by Extractive Direct Interface Fourier Transform Infrared (FTIR) Spectroscopy, Approved February 1, 2012, IBR approved for § 63.1571(a) and Table 4 to subpart UUUU.

* * * * *

(89) ASTM D6420-99, Standard Test Method for Determination of Gaseous Organic Compounds by Direct Interface Gas Chromatography-Mass Spectrometry, IBR approved for §§ 63.5799 and 63.5850.

* * * * *

(91) ASTM D6420-99 (Reapproved 2010), Standard Test Method for Determination of Gaseous Organic Compounds by Direct Interface Gas Chromatography-Mass Spectrometry, Approved October 1, 2010, IBR approved for § 63.670(j), Table 4 to subpart UUUU, and appendix A to this part: Method 325B.

* * * * *

Subpart UUUU—National Emission Standards for Hazardous Air Pollutants for Cellulose Products Manufacturing

3. Section 63.5505 is amended by adding paragraph (f) to read as follows:

§ 63.5505 What emission limits, operating limits, and work practice standards must I meet?

* * * * *

(f) Carbon disulfide storage tanks part of a submerged unloading and storage operation subject to this part are not subject to 40 CFR part 60, subpart Kb (Standards of Performance for Volatile Organic Liquid Storage Vessels (Including Petroleum Liquid Storage Vessels) for Which Construction, Reconstruction, or Modification Commenced After July 23, 1984).

4. Section 63.5515 is amended by revising paragraph (a), paragraph (b) introductory text, adding reserved paragraph (b)(2), and revising paragraph (c).

The revisions read as follows:

§ 63.5515 What are my general requirements for complying with this subpart?

(a) On or before December 29, 2020, for each existing source (and for each new or reconstructed source for which construction or reconstruction commenced on or before September 9, 2019), you must be in compliance with the emission limits, operating limits, and work practice standards in this subpart at all times, except during periods of startup, shutdown, and malfunction. After December 29, 2020, for each existing source (and for each new or reconstructed source for which construction or reconstruction commenced on or before September 9, 2019), you must be in compliance with the emission limitations in this subpart at all times. For new and reconstructed sources for which construction or reconstruction commenced after September 9, 2019, you must be in compliance with the emission limits, operating limits, and work practice standards in this subpart at all times on July 2, 2020, or immediately upon startup, whichever is later.

(b) On or before December 29, 2020, for each existing source (and for each new or reconstructed source for which construction or reconstruction commenced on or before September 9, 2019), you must always operate and maintain your affected source, including air pollution control and monitoring equipment, according to the provisions in § 63.6(e)(1)(i). After December 29. 2020, for each existing source (and for each new or reconstructed source for which construction or reconstruction commenced on or before September 9, 2019), and after September 9, 2019, for new and reconstructed sources for which construction or reconstruction commenced after September 9, 2019, you must always operate and maintain your affected source, including air pollution control and monitoring equipment in a manner consistent with good air pollution control practices for minimizing emissions at least to the levels required by this subpart. The general duty to minimize emissions does not require you to make any further efforts to reduce emissions if levels required by the applicable standard have been achieved. Determination of whether a source is operating in compliance with operation and maintenance requirements will be based on information available to the Administrator which may include, but is not limited to, monitoring results, review of operation and maintenance procedures, review of operation and maintenance records, and inspection of the source.

* * * * *

(c) On or before December 29 2020, for each existing source (and for each new or reconstructed source for which construction or reconstruction commenced on or before September 9, 2019), you must maintain a written startup, shutdown, and malfunction (SSM) plan according the provisions in § 63.6(e)(3). For each such source, a SSM plan is not required after December 29, 2020. No SSM plan is required for any new or reconstruction source for which construction or reconstruction commenced after September 9, 2019.

* * * * *

5. Section 63.5535 is amended by revising paragraph (b), removing and reserving paragraph (c), and revising paragraphs (g)(1), (h)(1), and (i)(7).

The revisions read as follows:

§ 63.5535 What performance tests and other procedures must I use?

* * * * *

(b) You must conduct each performance test for continuous process vents and combinations of batch and continuous process vents based on representative performance (i.e., performance based on normal operating conditions) of the affected source for the period being tested, according to the specific conditions in Table 4 to this subpart. Representative conditions exclude periods of startup and shutdown. You may not conduct performance tests during periods of malfunction. You must record the process information that is necessary to document operating conditions during the test and include in such record an explanation to support that such conditions represent normal operation. Upon request, you shall make available to the Administrator such records as may be necessary to determine the conditions of performance tests.

* * * * *

(g) * * *

(1) Viscose process affected sources that must use non-recovery control devices to meet the applicable emission limit in table 1 to this subpart must conduct an initial performance test of their non-recovery control devices according to the requirements in table 4 to this subpart to determine the control efficiency of their non-recovery control devices and incorporate this information in their material balance. Periodic performance tests must be conducted as specified in § 63.5541.

* * * * *

(h) * * *

(1) Cellulose ether affected sources that must use non-recovery control devices to meet the applicable emission limit in table 1 to this subpart must conduct an initial performance test of their non-recovery control devices according to the requirements in table 4 to this subpart to determine the control efficiency of their non-recovery control devices and incorporate this information in their material balance. Periodic performance tests must be conducted as specified in § 63.5541.

* * * * *

(i) * * *

(7) For biofilters, record the pressure drop across the biofilter beds, inlet gas temperature, and effluent pH or conductivity averaged over the same time period as the compliance demonstration while the vent stream is routed and constituted normally. Locate the pressure, temperature, and pH or conductivity sensors in positions that provide representative measurement of these parameters. Ensure the sample is properly mixed and representative of the fluid to be measured.

* * * * *

6. Section 63.5541 is added to read as follows:

§ 63.5541 When must I conduct subsequent performance tests?

(a) For each affected source utilizing a non-recovery control device to comply with § 63.5515 that commenced construction or reconstruction before September 9, 2019, a periodic performance test must be performed by July 2, 2023, and subsequent tests no later than 60 months thereafter.

(b) For each affected source utilizing a non-recovery control device to comply with § 63.5515 that commences construction or reconstruction after September 9, 2019, a periodic performance test must be performed no later than 60 months after the initial performance test required by § 63.5535, and subsequent tests no later than 60 months thereafter.

7. Section 63.5545 is amended by revising paragraphs (b)(1) and (e)(2) to read as follows:

§ 63.5545 What are my monitoring installation, operation, and maintenance requirements?

* * * * *

(b) * * *

(1) Ongoing operation and maintenance procedures in accordance with the general requirements of §§ 63.8(c)(3) and (4)(ii), 63.5515(b), and 63.5580(c)(6);

* * * * *

(e) * * *

(2) You must conduct a performance evaluation of each CEMS according to the requirements in § 63.8, Procedure 1 of 40 CFR part 60, appendix F, and according to the applicable performance specification listed in paragraphs (e)(1)(i) through (iv) of this section.

* * * * *

8. Section 63.5555 is amended by revising paragraph (d) to read as follows:

§ 63.5555 How do I demonstrate continuous compliance with the emission limits, operating limits, and work practice standards?

* * * * *

(d) For each affected source that commenced construction or reconstruction before September 9, 2019, on or before December 29, 2020, deviations that occur during a period of startup, shutdown, or malfunction are not violations if you demonstrate to the Administrator's satisfaction that you were operating in accordance with § 63.5515(b). The Administrator will determine whether deviations that occur on or before December 29, 2020, and during a period you identify as a startup, shutdown, or malfunction are violations, according to the provisions in § 63.5515(b). This section no longer applies after December 30, 2020. For new sources that commence construction or reconstruction after September 9, 2019, this section does not apply.

9. Section 63.5575 is revised to read as follows:

§ 63.5575 What notifications must I submit and when?

You must submit each notification in Table 7 to this subpart that applies to you by the date specified in Table 7 to this subpart. Initial notifications and Notification of Compliance Status Reports shall be electronically submitted in portable document format (PDF) following the procedure specified in § 63.5580(g).

10. Section 63.5580 is amended by:

a. Revising paragraphs (b) introductory text and (b)(2) and (4);

b. Adding paragraph (b)(6);

c. Revising paragraphs (c)(4), (e) introductory text, and (e)(2);

d. Adding paragraphs (e)(14) and (g) through (k).

The revisions and additions read as follows:

§ 63.5580 What reports must I submit and when?

* * * * *

(b) Unless the Administrator has approved a different schedule for submitting reports under § 63.10, you must submit each compliance report by the date in Table 8 to this subpart and according to the requirements in paragraphs (b)(1) through (6) of this section.

* * * * *

(2) The first compliance report must be submitted no later than August 31 or February 28, whichever date follows the end of the first calendar half after the compliance date that is specified for your affected source in § 63.5495.

* * * * *

(4) Each subsequent compliance report must be submitted no later than August 31 or February 28, whichever date is the first date following the end of the semiannual reporting period.

* * * * *

(6) Prior to December 29, 2020, all compliance reports submitted by mail must be postmarked or delivered no later than the dates specified in paragraphs (b)(1) through (5). Beginning on December 29, 2020, you must submit all compliance reports following the procedure specified in paragraph (g) of this section by the dates specified in paragraphs (b)(1) through (5).

* * * * *

(c) * * *

(4) Before December 30, 2020, for each existing source (and for each new or reconstructed source for which construction or reconstruction commenced on or before September 9, 2019), if you had a startup, shutdown, or malfunction during the reporting period and you took actions consistent with your SSM plan, the compliance report must include the information in § 63.10(d)(5)(i). After December 29, 2020, you are no longer required to report the information in § 63.10(d)(5)(i). No SSM plan is required for any new or reconstruction source for which construction or reconstruction commenced after September 9, 2019.

* * * * *

(e) For each deviation from an emission limit or operating limit occurring at an affected source where you are using a CMS to demonstrate continuous compliance with the emission limit or operating limit in this subpart (see Tables 5 and 6 to this subpart), you must include the information in paragraphs (c)(1) through (4) and (e)(1) through (14) of this section. This includes periods of SSM.

* * * * *

(2) The date, time, and duration that each CMS was inoperative, except for zero (low-level) and high-level checks.

* * * * *

(14) An estimate of the quantity of each regulated pollutant emitted over any emission limit, and a description of the method used to estimate the emissions.

* * * * *

(g) If you are required to submit notifications or reports following the procedure specified in this paragraph, you must submit notifications or reports to the EPA via the Compliance and Emissions Data Reporting Interface (CEDRI), which can be accessed through the EPA's Central Data Exchange (CDX) (https://cdx.epa.gov/). Notifications must be submitted as PDFs to CEDRI. You must use the semi-annual compliance report template on the CEDRI website (https://www.epa.gov/electronic-reporting-air-emissions/compliance-and-emissions-data-reporting-interface-cedri) for this subpart. The date report templates become available will be listed on the CEDRI website. The semi-annual compliance report must be submitted by the deadline specified in this subpart, regardless of the method in which the report is submitted. If you claim some of the information required to be submitted via CEDRI is confidential business information (CBI), submit a complete report, including information claimed to be CBI, to the EPA. The report must be generated using the appropriate form on the CEDRI website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described earlier in this paragraph.

(h) Within 60 days after the date of completing each performance test required by this subpart, you must submit the results of the performance test following the procedures specified in paragraphs (h)(1) through (3) of this section.

(1) Data collected using test methods supported by the EPA's Electronic Reporting Tool (ERT) as listed on the EPA's ERT website (https://www.epa.gov/electronic-reporting-air-emissions/electronic-reporting-tool-ert) at the time of the test. Submit the results of the performance test to the EPA via CEDRI, which can be accessed through the EPA's CDX (https://cdx.epa.gov/). The data must be submitted in a file format generated through the use of the EPA's ERT. Alternatively, you may submit an electronic file consistent with the extensible markup language (XML) schema listed on the EPA's ERT website.

(2) Data collected using test methods that are not supported by the EPA's ERT as listed on the EPA's ERT website at the time of the test. The results of the performance test must be included as an attachment in the ERT or an alternate electronic file consistent with the XML schema listed on the EPA's ERT website. Submit the ERT generated package or alternative file to the EPA via CEDRI.

(3) Confidential business information (CBI). If you claim some of the information submitted under this paragraph (h) is CBI, you must submit a complete file, including information claimed to be CBI, to the EPA. The file must be generated through the use of the EPA's ERT or an alternate electronic file consistent with the XML schema listed on the EPA's ERT website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described in paragraph (h) of this section.

(i) Within 60 days after the date of completing each CMS performance evaluation (as defined in § 63.2), you must submit the results of the performance evaluation following the procedures specified in paragraphs (i)(1) through (3) of this section.

(1) Performance evaluations of CMS measuring relative accuracy test audit (RATA) pollutants that are supported by the EPA's ERT as listed on the EPA's ERT website at the time of the evaluation. Submit the results of the performance evaluation to the EPA via CEDRI, which can be accessed through the EPA's CDX. The data must be submitted in a file format generated through the use of the EPA's ERT. Alternatively, you may submit an electronic file consistent with the XML schema listed on the EPA's ERT website.

(2) Performance evaluations of CMS measuring RATA pollutants that are not supported by the EPA's ERT as listed on the EPA's ERT website at the time of the evaluation. The results of the performance evaluation must be included as an attachment in the ERT or an alternate electronic file consistent with the XML schema listed on the EPA's ERT website. Submit the ERT generated package or alternative file to the EPA via CEDRI.

(3) Confidential business information (CBI). If you claim some of the information submitted under this paragraph (i) is CBI, you must submit a complete file, including information claimed to be CBI, to the EPA. The file must be generated through the use of the EPA's ERT or an alternate electronic file consistent with the XML schema listed on the EPA's ERT website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described in this paragraph (i).

(j) If you are required to electronically submit a report or notification through CEDRI in the EPA's CDX, you may assert a claim of EPA system outage for failure to timely comply with the reporting requirement. To assert a claim of EPA system outage, you must meet the requirements outlined in paragraphs (j)(1) through (7) of this section.

(1) You must have been or will be precluded from accessing CEDRI and submitting a required report within the time prescribed due to an outage of either the EPA's CEDRI or CDX systems.

(2) The outage must have occurred within the period of time beginning 5 business days prior to the date that the submission is due.

(3) The outage may be planned or unplanned.

(4) You must submit notification to the Administrator in writing as soon as possible following the date you first knew, or through due diligence should have known, that the event may cause or has caused a delay in reporting.

(5) You must provide to the Administrator a written description identifying:

(i) The date(s) and time(s) when CDX or CEDRI was accessed and the system was unavailable;

(ii) A rationale for attributing the delay in reporting beyond the regulatory deadline to EPA system outage;

(iii) A description of measures taken or to be taken to minimize the delay in reporting; and

(iv) The date by which you propose to report, or if you have already met the reporting requirement at the time of the notification, the date you reported.

(6) The decision to accept the claim of the EPA system outage and allow an extension to the reporting deadline is solely within the discretion of the Administrator.

(7) In any circumstance, the report must be submitted electronically as soon as possible after the outage is resolved.

(k) If you are required to electronically submit a report through CEDRI in the EPA's CDX, you may assert a claim of force majeure for failure to timely comply with the reporting requirement. To assert a claim of force majeure, you must meet the requirements outlined in paragraphs (k)(1) through (5) of this section.

(1) You may submit a claim if a force majeure event is about to occur, occurs, or has occurred or there are lingering effects from such an event within the period of time beginning five business days prior to the date the submission is due. For the purposes of this section, a force majeure event is defined as an event that will be or has been caused by circumstances beyond the control of the affected facility, its contractors, or any entity controlled by the affected facility that prevents you from complying with the requirement to submit a report electronically within the time period prescribed. Examples of such events are acts of nature (e.g., hurricanes, earthquakes, or floods), acts of war or terrorism, or equipment failure or safety hazard beyond the control of the affected facility (e.g., large scale power outage).

(2) You must submit notification to the Administrator in writing as soon as possible following the date you first knew, or through due diligence should have known, that the event may cause or has caused a delay in reporting.

(3) You must provide to the Administrator:

(i) A written description of the force majeure event;

(ii) A rationale for attributing the delay in reporting beyond the regulatory deadline to the force majeure event;

(iii) A description of measures taken or to be taken to minimize the delay in reporting; and

(iv) The date by which you propose to report, or if you have already met the reporting requirement at the time of the notification, the date you reported.

(4) The decision to accept the claim of force majeure and allow an extension to the reporting deadline is solely within the discretion of the Administrator.

(5) In any circumstance, the reporting must occur as soon as possible after the force majeure event occurs.

11. Section 63.5590 is amended by adding paragraph (e) to read as follows:

§ 63.5590 In what form and how long must I keep my records?

* * * * *

(e) Any records required to be maintained by this part that are submitted electronically via EPA's CEDRI may be maintained in electronic format. This ability to maintain electronic copies does not affect the requirement for facilities to make records, data, and reports available upon request to a delegated air agency or the EPA as part of an on-site compliance evaluation.

12. Table 2 to Subpart UUUU is revised to read as follows:

Table 2 to Subpart UUUU of Part 63—Operating Limits

As required in § 63.5505(b), you must meet the appropriate operating limits in the following table:

For the following control technique . . . | you must . . .
1. condenser | maintain the daily average condenser outlet gas or condensed liquid temperature no higher than the value established during the compliance demonstration.
2. thermal oxidizer | a. for periods of normal operation, maintain the daily average thermal oxidizer firebox temperature no lower than the value established during the compliance demonstration;
| b. after December 29, 2020, for existing sources (and new or reconstructed sources for which construction or reconstruction commenced on or before September 9, 2019), and on July 2, 2020, or immediately upon startup, whichever is later for new or reconstructed sources for which construction or reconstruction commenced after September 9, 2019, maintain documentation for periods of startup demonstrating that the oxidizer was properly operating (e.g., firebox temperature had reached the setpoint temperature) prior to emission unit startup.
3. water scrubber | a. for periods of normal operation, maintain the daily average scrubber pressure drop and scrubber liquid flow rate within the range of values established during the compliance demonstration;
| b. after December 29, 2020, for existing sources (and new or reconstructed sources for which construction or, reconstruction commenced on or before September 9, 2019), and on July 2, 2020, or immediately upon startup, whichever is later for new or reconstructed sources for which construction or reconstruction commenced after September 9, 2019, maintain documentation for periods of startup and shutdown to confirm that the scrubber is operating properly prior to emission unit startup and continues to operate properly until emission unit shutdown is complete. Appropriate startup and shutdown operating parameters may be based on equipment design, manufacturer's recommendations, or other site-specific operating values established for normal operating periods.
4. caustic scrubber | a. for periods of normal operation, maintain the daily average scrubber pressure drop, scrubber liquid flow rate, and scrubber liquid pH, conductivity, or alkalinity within the range of values established during the compliance demonstration;
| b. after December 29, 2020, for existing sources (and new or reconstructed sources for which construction or reconstruction commenced on or before September 9, 2019), and on July 2, 2020, or immediately upon startup, whichever is later for new or reconstructed sources for which construction or reconstruction commenced after September 9, 2019, maintain documentation for periods of startup and shutdown to confirm that the scrubber is operating properly prior to emission unit startup and continues to operate properly until emission unit shutdown is complete. Appropriate startup and shutdown operating parameters may be based on equipment design, manufacturer's recommendations, or other site-specific operating values established for normal operating periods.
5. flare | maintain the presence of a pilot flame.
6. biofilter | maintain the daily average biofilter inlet gas temperature, biofilter effluent pH or conductivity, and pressure drop within the operating values established during the compliance demonstration.
7. carbon absorber | maintain the regeneration frequency, total regeneration adsorber stream mass or volumetric flow during carbon bed regeneration, and temperature of the carbon bed after regeneration (and within 15 minutes of completing any cooling cycle(s)) for each regeneration cycle within the values established during the compliance demonstration.
8. oil absorber | maintain the daily average absorption liquid flow, absorption liquid temperature, and steam flow within the values established during the compliance demonstration.
9. any of the control techniques specified in this table | if using a CEMS, maintain the daily average control efficiency of each control device no lower than the value established during the compliance demonstration.
10. any of the control techniques specified in this table | a. if you wish to establish alternative operating parameters, submit the application for approval of the alternative operating parameters no later than the notification of the performance test or CEMS performance evaluation or no later than 60 days prior to any other initial compliance demonstration;
| b. the application must include: Information justifying the request for alternative operating parameters (such as the infeasibility or impracticality of using the operating parameters in this final rule); a description of the proposed alternative control device operating parameters; the monitoring approach; the frequency of measuring and recording the alternative parameters; how the operating limits are to be calculated; and information documenting that the alternative operating parameters would provide equivalent or better assurance of compliance with the standard;
| c. install, operate, and maintain the alternative parameter monitoring systems in accordance with the application approved by the Administrator;
| d. establish operating limits during the initial compliance demonstration based on the alternative operating parameters included in the approved application; and
| e. maintain the daily average alternative operating parameter values within the values established during the compliance demonstration.
11. alternative control technique | a. submit for approval no later than the notification of the performance test or CEMS performance evaluation or no later than 60 days prior to any other initial compliance demonstration a proposed site-specific plan that includes: A description of the alternative control device; test results verifying the performance of the control device; the appropriate operating parameters that will be monitored; and the frequency of measuring and recording to establish continuous compliance with the operating limits;
| b. install, operate, and maintain the parameter monitoring system for the alternative control device in accordance with the plan approved by the Administrator;
| c. establish operating limits during the initial compliance demonstration based on the operating parameters for the alternative control device included in the approved plan; and
| d. maintain the daily average operating parameter values for the alternative control technique within the values established during the compliance demonstration.

13. Table 3 to Subpart UUUU is revised to read as follows:

Table 3 to Subpart UUUU of Part 63—Initial Compliance With Emission Limits and Work Practice Standards

As required in §§ 63.5530(a) and 63.5535(g) and (h), you must demonstrate initial compliance with the appropriate emission limits and work practice standards according to the requirements in the following table:

For . . . | at . . . | for the following emission limit or work practice standard . . . | you have demonstrated initial compliance if . . .
1. the sum of all viscose process vents | a. each existing cellulose food casing operation | i. reduce total uncontrolled sulfide emissions (reported as carbon disulfide) by at least 25 percent based on a 6-month rolling average; ii. for each vent stream that you control using a control device, route the vent stream through a closed-vent system to the control device; and iii. comply with the work practice standard for closed-vent systems | (1) the average uncontrolled total sulfide emissions, determined during the month-long compliance demonstration or using engineering assessments, are reduced by at least 25 percent; (2) you have a record of the range of operating parameter values over the month-long compliance demonstration during which the average uncontrolled total sulfide emissions were reduced by at least 25 percent; (3) you prepare a material balance that includes the pertinent data used to determine the percent reduction of total sulfide emissions; and (4) you comply with the initial compliance requirements for closed-vent systems.
| b. each new cellulose food casing operation | i. reduce total uncontrolled sulfide emissions (reported as carbon disulfide) by at least 75 percent based on a 6-month rolling average; ii. for each vent stream that you control using a control device, route the vent stream through a closed-vent system to the control device; and iii. comply with the work practice standard for closed-vent systems. | (1) the average uncontrolled total sulfide emissions, determined during the month-long compliance demonstration or using engineering assessments, are reduced by at least 75 percent; (2) you have a record of the range of operating parameter values over the month-long compliance demonstration during which the average uncontrolled total sulfide emissions were reduced by at least 75 percent; (3) you prepare a material balance that includes the pertinent data used to determine the percent reduction of total sulfide emissions; and (4) you comply with the initial compliance requirements for closed-vent systems.
| c. each existing rayon operation | i. reduce total uncontrolled sulfide emissions (reported as carbon disulfide) by at least 35 percent within 3 years after the effective date based on a 6-month rolling average; for each vent stream that you control using a control device, route the vent stream through a closed-vent system to the control device; and comply with the work practice standard for closed-vent systems; and | (1) the average uncontrolled total sulfide emissions, determined during the month-long compliance demonstration or using engineering assessments, are reduced by at least 35 percent within 3 years after the effective date; (2) you have a record of the average operating parameter values over the month-long compliance demonstration during which the average uncontrolled total sulfide emissions were reduced by at least 35 percent; (3) you prepare a material balance that includes the pertinent data used to determine the percent reduction of total sulfide emissions; and (4) you comply with the initial compliance requirements for closed-vent systems; and
|  | ii. reduce total uncontrolled sulfide emissions (reported as carbon disulfide) by at least 40 percent within 8 years after the effective date based on a 6-month rolling average; for each vent stream that you control using a control device, route the vent stream through a closed-vent system to the control device; and comply with the work practice standard for closed-vent systems. | (1) the average uncontrolled total sulfide emissions, determined during the month-long compliance demonstration or using engineering assessments, are reduced by at least 40 percent within 8 years after the effective date; (2) you have a record of the average operating parameter values over the month-long compliance demonstration during which the average uncontrolled total sulfide emissions were reduced by at least 40 percent; (3) you prepare a material balance that includes the pertinent data used to determine the percent reduction of the total sulfide emissions; and (4) you comply with the initial compliance requirements for closed-vent systems.
| d. each new rayon operation | i. reduce total uncontrolled sulfide emissions (reported as carbon disulfide) by at least 75 percent; based on a 6-month rolling average; ii. for each vent stream that you control using a control device, route the vent stream through a closed-vent system to the control device; and iii. comply with the work practice standard for closed-vent systems. | (1) the average uncontrolled total sulfide emissions, determined during the month-long compliance demonstration or using engineering assessments, are reduced by at least 75 percent; (2) you have a record of the average operating parameter values over the month-long compliance demonstration during which the average uncontrolled total sulfide emissions were reduced by at least 75 percent; (3) you prepare a material balance that includes the pertinent data used to determine the percent reduction of total sulfide missions; and (4) you comply with the initial compliance requirements for closed-vent systems.
| e. each existing or new cellulosic sponge operation | i. reduce total uncontrolled sulfide emissions (reported as carbon disulfide) by at least 75 percent based on a 6-month rolling average; ii. for each vent stream that you control using a control device, route the vent stream through a closed-vent system to the control device; and iii. comply with the work practice standard for closed-vent systems. | (1) the average uncontrolled total sulfide emissions, determined during the month-long compliance demonstration or using engineering assessments, are reduced by at least 75 percent; (2) you have a record of the average operating parameter values over the month-long compliance demonstration during which the average uncontrolled total sulfide emissions were reduced by at least 75 percent; (3) you prepare a material balance that includes the pertinent data used to determine and the percent reduction of total sulfide emissions; and (4) you comply with the initial compliance requirements for closed-vent systems.
| f. each existing or new cellophane operation | i. reduce total uncontrolled sulfide emissions (reported as carbon disulfide) by at least 75 percent based on a 6-month rolling average; ii. for each vent stream that you control using a control device (except for retractable hoods over sulfuric acid baths at a cellophane operation), route the vent stream through a closed-vent system to the control device; and iii. comply with the work practice standard for closed-vent systems. | (1) the average uncontrolled total sulfide emissions, determined during the month-long compliance demonstration or using engineering assessments, are reduced by at least 75 percent; (2) you have a record of the average operating parameter values over the month-long compliance demonstration during which the average uncontrolled total sulfide emissions were reduced by at least 75 percent; (3) you prepare a material balance that includes the pertinent data used to determine the percent reduction of total sulfide emissions; and (4) you comply with the initial compliance requirements for closed-vent systems.
2. the sum of all solvent coating process vents | a. each existing or new cellophane operation | i. reduce uncontrolled toluene emissions by at least 95 percent based on a 6-month rolling average; ii. for each vent stream that you control using a control device, route the vent stream through a closed-vent system to the control device; and iii. comply with the work practice standard for closed-vent systems. | (1) the average uncontrolled toluene emissions, determined during the month-long compliance demonstration or using engineering assessments, are reduced by at least 95 percent; (2) you have a record of the average operating parameter values over the month-long compliance demonstration during which the average uncontrolled toluene emissions were reduced by at least 95 percent; (3) you prepare a material balance that includes the pertinent data used to determine the percent reduction of toluene emissions; and (4) you comply with the initial compliance requirements for closed-vent systems.
3. the sum of all cellulose ether process vents | a. each existing or new cellulose ether operation using a performance test to demonstrate initial compliance; or | i. reduce total uncontrolled organic HAP emissions by at least 99 percent; ii. for each vent stream that you control using a control device, route the vent stream through a closed-vent system to the control device; and iii. comply with the work practice standard for closed-vent systems. | (1) average uncontrolled total organic HAP emissions, measured during the performance test or determined using engineering estimates are reduced by at least 99 percent; (2) you have a record of the average operating parameter values over the performance test during which the average uncontrolled total organic HAP emissions were reduced by at least 99 percent; and (3) you comply with the initial compliance requirements for closed-vent systems.
| b. each existing or new cellulose ether operation using a material balance compliance demonstration to demonstrate initial compliance | i. reduce total uncontrolled organic HAP emissions by at least 99 percent based on a 6-month rolling average; ii. for each vent stream that you control using a control device, route the vent stream through a closed-vent system to the control device; and iii. comply with the work practice standard for closed-vent systems. | (1) average uncontrolled total organic HAP emissions, determined during the month-long compliance demonstration or using engineering estimates are reduced by at least 99 percent; (2) you have a record of the average operation parameter values over the month-long compliance demonstration during which the average uncontrolled total organic HAP emissions were reduced by at least 99 percent; (3) you prepare a material balance that includes the pertinent data used to determine the percent reduction of total organic HAP emissions; (4) if you use extended cookout to comply, you measure the HAP charged to the reactor, record the grade of product produced, and then calculate reactor emissions prior to extended cookout by taking a percentage of the total HAP charged.
4. closed-loop systems | each existing or new cellulose ether operation | operate and maintain the closed-loop system for cellulose ether operations. | you have a record certifying that a closed-loop system is in use for cellulose ether operations.
5. each carbon disulfide unloading and storage operation | a. each existing or new viscose process affected source | i. reduce uncontrolled carbon disulfide emissions by at least 83 percent from unloading and storage operations based on a 6-month rolling average if you use an alternative control technique not listed in this table for carbon disulfide unloading and storage operations; if using a control device to reduce emissions, route emissions through a closed-vent system to the control device; and comply with the work practice standard for closed-vent systems; | (1) you have a record documenting the 83-percent reduction in uncontrolled carbon disulfide emissions; and (2) if venting to a control device to reduce emissions, you comply with the initial compliance requirements for closed-vent systems;
|  | ii. reduce uncontrolled carbon disulfide by at least 0.14 percent from viscose process vents based on a 6-month rolling average; for each vent stream that you control using a control device, route the vent stream through a closed-vent system to the control device; and comply with the work practice standard for closed-vent systems; | (1) you comply with the initial compliance requirements for viscose process vents at existing or new cellulose food casing, rayon, cellulosic sponge, or cellophane operations, as applicable; (2) the 0.14-percent reduction must be in addition to the reduction already required for viscose process vents at existing or new cellulose food casing, rayon, cellulosic sponge, or cellophane operations, as applicable; and (3) you comply with the initial compliance requirements for closed-vent systems;
|  | iii. install a nitrogen unloading and storage system; or | you have a record certifying that a nitrogen unloading and storage system is in use; or
|  | iv. install a nitrogen unloading system; reduce uncontrolled carbon disulfide by at least 0.045 percent from viscose process vents based on a 6-month rolling average; for each vent stream that you control using a control device, route the vent stream through a closed-vent system to the control device; and comply with the work practice standard for closed-vent systems. | (1) you have a record certifying that a nitrogen unloading system is in use; (2) you comply with the initial compliance requirements for viscose process vents at existing or new cellulose food casing, rayon, cellulosic sponge, or cellophane operations, as applicable; (3) the 0.045-percent reduction must be in addition to the reduction already required for viscose process vents at cellulose food casing, rayon, cellulosic sponge, or cellophane operations, as applicable; and (4) you comply with the initial compliance requirements for closed-vent systems.
6. each toluene storage vessel | a. each existing or new cellophane operation | i. reduce uncontrolled toluene emissions by at least 95 percent based on a 6-month rolling average; ii. if using a control device to reduce emissions, route the emissions through a closed-vent system to the control device; and iii. comply with the work practice standard for closed-vent systems. | (1) the average uncontrolled toluene emissions, determined during the month-long compliance demonstration or using engineering assessments, are reduced by at least 95 percent; (2) you have a record of the average operating parameter values over the month-long compliance demonstration during which the average uncontrolled toluene emissions were reduced by at least 95 percent; (3) you prepare a material balance that includes the pertinent data used to determine the percent reduction of toluene emissions; and (4) if venting to a control device to reduce emissions, you comply with the initial compliance requirements for closed-vent systems.
7. equipment leaks | a. each existing or new cellulose ether operation | i. comply with the applicable equipment leak standards of §§ 63.162 through 63.179; or | you comply with the applicable requirements described in the Notification of Compliance Status Report provisions in § 63.182(a)(2) and (c)(1) through (3), except that references to the term “process unit” mean “cellulose ether process unit” for the purposes of this subpart; or
|  | ii. comply with the applicable equipment leak standards of §§ 63.1021 through 63.1027. | you comply with the applicable requirements described in the Initial Compliance Status Report provisions of § 63.1039(a), except that references to the term “process unit” mean “cellulose ether process unit” for the purposes of this subpart.
8. all sources of wastewater emissions | each existing or new cellulose ether operation | comply with the applicable wastewater provisions of § 63.105 and §§ 63.132 through 63.140. | you comply with the applicability and Group 1/Group 2 determination provisions of § 63.144 and the initial compliance provisions of §§ 63.105 and 63.145.
9. liquid streams in open systems | each existing or new cellulose ether operation | comply with the applicable provisions of § 63.149, except that references to “chemical manufacturing process unit” mean “cellulose ether process unit” for the purposes of this subpart. | you install emission suppression equipment and conduct an initial inspection according to the provisions of §§ 63.133 through 63.137.
10. closed-vent system used to route emissions to a control device | a. each existing or new affected source | i. conduct annual inspections, repair leaks, and maintain records as specified in § 63.148. | (1) you conduct an initial inspection of the closed-vent system and maintain records according to § 63.148; (2) you prepare a written plan for inspecting unsafe-to-inspect and difficult-to-inspect equipment according to § 63.148(g)(2) and (h)(2); and (3) you repair any leaks and maintain records according to § 63.148.
11. closed-vent system containing a bypass line that could divert a vent stream away from a control device, except for equipment needed for safety purposes (described in § 63.148(f)(3)) | a. each existing or new affected source | i. install, calibrate, maintain, and operate a flow indicator as specified in § 63.148(f)(1); or | you have a record documenting that you installed a flow indicator as specified in Table 1 to this subpart; or
|  | ii. secure the bypass line valve in the closed position with a car-seal or lock-and-key type configuration and inspect the seal or closure mechanism at least once per month as specified in § 63.148(f)(2) | you have record documenting that you have secured the bypass line valve as specified in Table 1 to this subpart.
12. heat exchanger system that cools process equipment or materials in the process unit | a. each existing or new affected source | i. monitor and repair the heat exchanger system according to § 63.104(a) through (e), except that references to “chemical manufacturing process unit” mean “cellulose food casing, rayon, cellulosic sponge, cellophane, or cellulose ether process unit” for the purposes of this subpart. | (1) you determine that the heat exchanger system is exempt from monitoring requirements because it meets one of the conditions in § 63.104(a)(1) through (6), and you document this finding in your Notification of Compliance Status Report; or (2) if your heat exchanger system is not exempt, you identify in your Notification of Compliance Status Report the HAP or other representative substance that you will monitor, or you prepare and maintain a site-specific plan containing the information required by § 63.104(c)(1)(i) through (iv) that documents the procedures you will use to detect leaks by monitoring surrogate indicators of the leak.

14. Table 4 to Subpart UUUU is revised to read as follows:

Table 4 to Subpart UUUU of Part 63—Requirements for Performance Tests

As required in §§ 63.5530(b) and 63.5535(a), (b), (g)(1), and (h)(1), you must conduct performance tests, other initial compliance demonstrations, and CEMS performance evaluations and establish operating limits according to the requirements in the following table:

For . . . | at . . . | you must . . . | using . . . | according to the following requirements . . .
1. the sum of all process vents | a. each existing or new affected source | i. select sampling port's location and the number of traverse points; | EPA Method 1 or 1A in appendix A-1 to part 60 of this chapter; | sampling sites must be located at the inlet and outlet to each control device;
|  | ii. determine velocity and volumetric flow rate; | EPA Method 2, 2A, 2C, 2D, 2F, or 2G in appendices A-1 and A-2 to part 60 of this chapter; | you may use EPA Method 2A, 2C, 2D, 2F, or 2G as an alternative to using EPA Method 2, as appropriate;
|  | iii. conduct gas analysis; and, | (1) EPA Method 3, 3A, or 3B in appendix A-2 to part 60 of this chapter; or, | you may use EPA Method 3A or 3B as an alternative to using EPA Method 3; or,
|  |  | (2) ASME PTC 19.10-1981—Part 10 (incorporated by reference—see § 63.14); and, | you may use ASME PTC 19.10-1981—Part 10 as an alternative to using the manual procedures (but not instrumental procedures) in EPA Method 3B.
|  | iv. measure moisture content of the stack gas. | EPA Method 4 in appendix A-3 to part 60 of this chapter.
2. the sum of all viscose process vents | a. each existing or new viscose process source | i. measure total sulfide emissions. | (1) EPA Method 15 in appendix A-5 to part 60 of this chapter; or | (a) you must conduct testing of emissions at the inlet and outlet of each control device; (b) you must conduct testing of emissions from continuous viscose process vents and combinations of batch and continuous viscose process vents at normal operating conditions, as specified in § 63.5535; (c) you must conduct testing of emissions from batch viscose process vents as specified in § 63.490(c), except that the emission reductions required for process vents under this subpart supersede the emission reductions required for process vents under subpart U of this part; and (d) you must collect CPMS data during the period of the initial compliance demonstration and determine the CPMS operating limit during the period of the initial compliance demonstration.
|  |  | (2) carbon disulfide and/or hydrogen sulfide CEMS, as applicable; | (a) you must measure emissions at the inlet and outlet of each control device using CEMS; (b) you must install, operate, and maintain the CEMS according to the applicable performance specification (PS-7, PS-8, PS-9, or PS-15) of appendix B to part 60 of this chapter; and (c) you must collect CEMS emissions data at the inlet and outlet of each control device during the period of the initial compliance demonstration and determine the CEMS operating limit during the period of the initial compliance demonstration.
3. the sum of all solvent coating process vents | a. each existing or new cellophane operation | i. measure toluene emissions. | (1) EPA Method 18 in appendix A-6 to part 60 of this chapter, or Method 320 in appendix A to part 63; or | (a) you must conduct testing of emissions at the inlet and outlet of each control device; (b) you may use EPA Method 18 or 320 to determine the control efficiency of any control device for organic compounds; for a combustion device, you must use only HAP that are present in the inlet to the control device to characterize the percent reduction across the combustion device; (c) you must conduct testing of emissions from continuous solvent coating process vents and combinations of batch and continuous solvent coating process vents at normal operating conditions, as specified in § 63.5535; (d) you must conduct testing of emissions from batch solvent coating process vents as specified in § 63.490(c), except that the emission reductions required for process vents under this subpart supersede the emission reductions required for process vents under subpart U of this part; and (e) you must collect CPMS data during the period of the initial compliance demonstration and determine the CPMS operating limit during the initial compliance demonstration.
|  |  | (2) ASTM D6420-99 (Reapproved 2010) (incorporated by reference—see § 63.14); or | (a) you must conduct testing of emissions at the inlet and outlet of each control device; (b) you may use ASTM D6420-99 (Reapproved 2010) as an alternative to EPA Method 18 only where: The target compound(s) are known and are listed in ASTM D6420 as measurable; this ASTM should not be used for methane and ethane because their atomic mass is less than 35; ASTM D6420 should never be specified as a total VOC method; (c) you must conduct testing of emissions from continuous solvent coating process vents and combinations of batch and continuous solvent coating process vents at normal operating conditions, as specified in § 63.5535; (d) you must conduct testing of emissions from batch solvent coating process vents as specified in § 63.490(c), except that the emission reductions required for process vents under this subpart supersede the emission reductions required for process vents under subpart U of this part; and (e) you must collect CPMS data during the period of the initial compliance demonstration and determine the CPMS operating limit during the period of the initial compliance demonstration.
|  |  | (3) ASTM D6348-12e1 (incorporated by reference—see § 63.14). | (a) you must conduct testing of emissions at the inlet and outlet of each control device; (b) you may use ASTM D6348-12e1 as an alternative to EPA Method 320 only where the following conditions are met: (1) The test plan preparation and implementation in the Annexes to ASTM D 6348-03, Sections A1 through A8 are mandatory; and (2) in ASTM D6348-03 Annex A5 (Analyte Spiking Technique), the percent recovery (%R) must be determined for each target analyte (Equation A5.5). In order for the test data to be acceptable for a compound, %R must be greater than or equal to 70 percent and less than or equal to 130 percent. If the %R value does not meet this criterion for a target compound, the test data are not acceptable for that compound and the test must be repeated for that analyte (i.e., the sampling and/or analytical procedure should be adjusted before a retest). The %R value for each compound must be reported in the test report, and all field measurements must be corrected with the calculated %R value for that compound by using the following equation: Reported Results = ((Measured Concentration in the Stack)/(%R)) × 100. ASTM D6348-03 is incorporated by reference, see § 63.14. (c) you must conduct testing of emissions from continuous solvent coating process vents and combinations of batch and continuous solvent coating process vents at normal operating conditions, as specified in § 63.5535; (d) you must conduct testing of emissions from batch solvent coating process vents as specified in § 63.490(c), except that the emission reductions required for process vents under this subpart supersede the emission reductions required for process vents under subpart U of this part; and (e) you must collect CPMS data during the period of the initial compliance demonstration and determine the CPMS operating limit during the period of the initial compliance demonstration.
4. the sum of all cellulose ether process vents | a. each existing or new cellulose ether operation | i. measure total organic HAP emissions. | (1) EPA Method 18 in appendix A-6 to part 60 of this chapter or Method 320 in appendix A to this part, or | (a) you must conduct testing of emissions at the inlet and outlet of each control device; (b) you may use EPA Method 18 or 320 to determine the control efficiency of any control device for organic compounds; for a combustion device, you must use only HAP that are present in the inlet to the control device to characterize the percent reduction across the combustion device; (c) you must conduct testing of emissions from continuous cellulose ether process vents and combinations of batch and continuous cellulose ether process vents at normal operating conditions, as specified in § 63.5535; (d) you must conduct testing of emissions from batch cellulose ether process vents as specified in § 63.490(c), except that the emission reductions required for process vents under this subpart supersede the emission reductions required for process vents under subpart U of this part; and (e) you must collect CPMS data during the period of the initial performance test and determine the CPMS operating limit during the period of the initial performance test.
|  |  | (2) ASTM D6420-99 (Reapproved 2010); or | (a) you must conduct testing of emissions at the inlet and outlet of each control device; (b) you may use ASTM D6420-99 (Reapproved 2010) as an alternative to EPA Method 18 only where: The target compound(s) are known and are listed in ASTM D6420 as measurable; this ASTM should not be used for methane and ethane because their atomic mass is less than 35; ASTM D6420 should never be specified as a total VOC method; (c) you must conduct testing of emissions from continuous cellulose ether process vents and combinations of batch and continuous cellulose ether process vents at normal operating conditions, as specified in § 63.5535; (d) you must conduct testing of emissions from batch cellulose ether process vents as specified in § 63.490(c), except that the emission reductions required for process vents under this subpart supersede the emission reductions required for process vents under subpart U of this part; and (e) you must collect CPMS data during the period of the initial performance test and determine the CPMS operating limit during the period of the initial performance test.
|  |  | (3) ASTM D6348-12e1. | (a) you must conduct testing of emissions at the inlet and outlet of each control device; (b) you may use ASTM D6348-12e1 as an alternative to EPA Method 320 only where the following conditions are met: (1) The test plan preparation and implementation in the Annexes to ASTM D 6348-03, Sections A1 through A8 are mandatory; and (2) in ASTM D6348-03 Annex A5 (Analyte Spiking Technique), the percent recovery (%R) must be determined for each target analyte (Equation A5.5). In order for the test data to be acceptable for a compound, %R must be greater than or equal to 70 percent and less than or equal to 130 percent. If the %R value does not meet this criterion for a target compound, the test data are not acceptable for that compound and the test must be repeated for that analyte (i.e., the sampling and/or analytical procedure should be adjusted before a retest). The %R value for each compound must be reported in the test report, and all field measurements must be corrected with the calculated %R value for that compound by using the following equation: Reported Results = ((Measured Concentration in the Stack)/(%R)) × 100. (c) you must conduct testing of emissions from continuous solvent coating process vents and combinations of batch and continuous solvent coating process vents at normal operating conditions, as specified in § 63.5535; (d) you must conduct testing of emissions from batch solvent coating process vents as specified in § 63.490(c), except that the emission reductions required for process vents under this subpart supersede the emission reductions required for process vents under subpart U of this part; and (e) you must collect CPMS data during the period of the initial compliance demonstration and determine the CPMS operating limit during the period of the initial compliance demonstration.
|  |  | (4) EPA Method 25 in appendix A-7 to part 60 of this chapter; or | (a) you must conduct testing of emissions at the inlet and outlet of each control device; (b) you may use EPA Method 25 to determine the control efficiency of combustion devices for organic compounds; you may not use EPA Method 25 to determine the control efficiency of noncombustion control devices; (c) you must conduct testing of emissions from continuous cellulose ether process vents and combinations of batch and continuous cellulose ether process vents at normal operating conditions, as specified in § 63.5535; (d) you must conduct testing of emissions from batch cellulose ether process vents as specified in § 63.490(c), except that the emission reductions required for process vents under this subpart supersede the emission reductions required for process vents under subpart U of this part; and (e) you must collect CPMS data during the period of the initial performance test and determine the CPMS operating limit during the period of the initial performance test
|  |  | (5) EPA Method 25A in appendix A-7 to part 60 of this chapter. | (a) you must conduct testing of emissions at the inlet and outlet of each control device; (b) you may use EPA Method 25A if: An exhaust gas volatile organic matter concentration of 50 ppmv or less is required in order to comply with the emission limit; the volatile organic matter concentration at the inlet to the control device and the required level of control are such as to result in exhaust volatile organic matter concentrations of 50 ppmv or less; or because of the high control efficiency of the control device, the anticipated volatile organic matter concentration at the control device exhaust is 50 ppmv or less, regardless of the inlet concentration; (c) you must conduct testing of emissions from continuous cellulose ether process vents and combinations of batch and continuous cellulose ether process vents at normal operating conditions, as specified in § 63.5535; (d) you must conduct testing of emissions from batch cellulose ether process vents as specified in § 63.490(c), except that the emission reductions required for process vents under this subpart supersede the emission reductions required for process vents under subpart U of this part; and, (e) you must collect CPMS data during the period of the initial performance test and determine the CPMS operating limit during the period of the initial performance test.
5. each toluene storage vessel | a. each existing or new cellophane operation | i. measure toluene emissions. | (1) EPA Method 18 in appendix A-6 to part 60 of this chapter or Method 320 in appendix A to this part; or | (a) if venting to a control device to reduce emissions, you must conduct testing of emissions at the inlet and outlet of each control device; (b) you may use EPA Method 18 or 320 to determine the control efficiency of any control device for organic compounds; for a combustion device, you must use only HAP that are present in the inlet to the control device to characterize the percent reduction across the combustion device; (c) you must conduct testing of emissions from continuous storage vessel vents and combinations of batch and continuous storage vessel vents at normal operating conditions, as specified in § 63.5535 for continuous process vents; (d) you must conduct testing of emissions from batch storage vessel vents as specified in § 63.490(c) for batch process vents, except that the emission reductions required for process vents under this subpart supersede the emission reductions required for process vents under subpart U of this part; and, (e) you must collect CPMS data during the period of the initial compliance demonstration and determine the CPMS operating limit during the period of the initial compliance demonstration.
|  |  | (2) ASTM D6420-99; or | (a) if venting to a control device to reduce emissions, you must conduct testing of emissions at the inlet and outlet of each control device; (b) you may use ASTM D6420-99 (Reapproved 2010) as an alternative to EPA Method 18 only where: The target compound(s) are known and are listed in ASTM D6420 as measurable; this ASTM should not be used for methane and ethane because their atomic mass is less than 35; ASTM D6420 should never be specified as a total VOC method; (c) you must conduct testing of emissions from continuous storage vessel vents and combinations of batch and continuous storage vessel vents at normal operating conditions, as specified in § 63.5535 for continuous process vents; (d) you must conduct testing of emissions from batch storage vessel vents as specified in § 63.490(c) for batch process vents, except that the emission reductions required for process vents under this subpart supersede the emission reductions required for process vents under subpart U of this part; and, (e) you must collect CPMS data during the period of the initial compliance demonstration and determine the CPMS operating limit during the period of the initial compliance demonstration.
|  |  | (3) ASTM D6348-12e1. | (a) you must conduct testing of emissions at the inlet and outlet of each control device; (b) you may use ASTM D6348-12e1 as an alternative to EPA Method 320 only where the following conditions are met: (1) The test plan preparation and implementation in the Annexes to ASTM D 6348-03, Sections A1 through A8 are mandatory; and (2) in ASTM D6348-03 Annex A5 (Analyte Spiking Technique), the percent recovery (%R) must be determined for each target analyte (Equation A5.5). In order for the test data to be acceptable for a compound, %R must be greater than or equal to 70 percent and less than or equal to 130 percent. If the %R value does not meet this criterion for a target compound, the test data are not acceptable for that compound and the test must be repeated for that analyte (i.e., the sampling and/or analytical procedure should be adjusted before a retest). The %R value for each compound must be reported in the test report, and all field measurements must be corrected with the calculated %R value for that compound by using the following equation: Reported Results = ((Measured Concentration in the Stack)/(%R)) × 100. (c) you must conduct testing of emissions from continuous solvent coating process vents and combinations of batch and continuous solvent coating process vents at normal operating conditions, as specified in § 63.5535; (d) you must conduct testing of emissions from batch solvent coating process vents as specified in § 63.490(c), except that the emission reductions required for process vents under this subpart supersede the emission reductions required for process vents under subpart U of this part; and (e) you must collect CPMS data during the period of the initial compliance demonstration and determine the CPMS operating limit during the period of the initial compliance demonstration.
6. the sum of all process vents controlled using a flare | each existing or new affected source | measure visible emissions. | EPA Method 22 in appendix A-7 to part 60 of this chapter. | you must conduct the flare visible emissions test according to § 63.11(b).
7. equipment leaks | a. each existing or new cellulose ether operation | i. measure leak rate. | (1) applicable equipment leak test methods in § 63.180; or | you must follow all requirements for the applicable equipment leak test methods in § 63.180; or
|  |  | (2) applicable equipment leak test methods in § 63.1023. | you must follow all requirements for the applicable equipment leak test methods in § 63.1023.
8. all sources of wastewater emissions | a. each existing or new cellulose ether operation | i. measure wastewater HAP emissions. | (1) applicable wastewater test methods and procedures in §§ 63.144 and 63.145; or | (a) You must follow all requirements for the applicable wastewater test methods and procedures in §§ 63.144 and 63.145; or
|  |  | (2) applicable wastewater test methods and procedures in §§ 63.144 and 63.145, using ASTM D5790-95 (Reapproved 2012) (incorporated by reference—see § 63.14) as an alternative to EPA Method 624 in appendix A to part 163 of this chapter. | (a) you must follow all requirements for the applicable waste water test methods and procedures in §§ 63.144 and 63.145, except that you may use ASTM D5790-95 (Reapproved 2012) as an alternative to EPA Method 624, under the condition that this ASTM method be used with the sampling procedures of EPA Method 25D or an equivalent method.
9. any emission point | a. each existing or new affected source using a CEMS to demonstrate compliance | i. conduct a CEMS performance evaluation. | (1) applicable requirements in § 63.8 and applicable performance specification (PS-7, PS-8, PS-9, or PS-15) in appendix B to part 60 of this chapter. | (a) you must conduct the CEMS performance evaluation during the period of the initial compliance demonstration according to the applicable requirements in § 63.8 and the applicable performance specification (PS-7, PS-8, PS-9, or PS-15) of 40 CFR part 60, appendix B; (b) you must install, operate, and maintain the CEMS according to the applicable performance specification (PS-7, PS-8, PS-9, or PS-15) of 40 CFR part 60, appendix B; and (c) you must collect CEMS emissions data at the inlet and outlet of each control device during the period of the initial compliance demonstration and determine the CEMS operating limit during the period of the initial compliance demonstration.

15. Table 5 to Subpart UUUU is revised to read as follows:

Table 5 to Subpart UUUU of Part 63—Continuous Compliance With Emission Limits and Work Practice Standards

As required in § 63.5555(a), you must demonstrate continuous compliance with the appropriate emission limits and work practice standards according to the requirements in the following table:

For . . . | at . . . | for the following emission limit or work practice standard . . . | you must demonstrate continuous compliance by . . .
1. the sum of all viscose process vents | a. each existing or new viscose process affected source | i. reduce total uncontrolled sulfide emissions (reported as carbon disulfide) by at least the specified percentage based on a 6-month rolling average; ii. for each vent stream that you control using a control device (except for retractable hoods over sulfuric acid baths at a cellophane operation), route the vent stream through a closed-vent system to the control device; and iii. comply with the work practice standard for closed-vent systems (except for retractable hoods over sulfuric acid baths at a cellophane operation) | (1) maintaining a material balance that includes the pertinent data used to determine the percent reduction of total sulfide emissions; (2) documenting the percent reduction of total sulfide emissions using the pertinent data from the material balance; and (3) complying with the continuous compliance requirements for closed-vent systems.
2. the sum of all solvent coating process vents | a. each existing or new cellophane operation | i. reduce uncontrolled toluene emissions by at least 95 percent based on a 6-month rolling average; ii. for each vent stream that you control using a control device, route the vent stream through a closed-vent system to the control device; and iii. comply with the work practice standard for closed-vent systems. | (1) maintaining a material balance that includes the pertinent data used to determine the percent reduction of toluene emissions; (2) documenting the percent reduction of toluene emissions using the pertinent data from the material balance; and (3) complying with the continuous compliance requirements for closed-vent systems.
3. the sum of all cellulose ether process vents | a. each existing or new cellulose ether operation using a performance test to demonstrate initial compliance; or | i. reduce total uncontrolled organic HAP emissions by at least 99 percent; ii. for each vent stream that you control using a control device, route the vent stream through a closed-vent system to the control device; and, iii. comply with the work practice standard for closed-vent systems; or | (1) complying with the continuous compliance requirements for closed-vent systems; or (2) if using extended cookout to comply, monitoring reactor charges and keeping records to show that extended cookout was employed.
| b. each existing or new cellulose ether operation using a material balance compliance demonstration to demonstrate initial compliance | i. reduce total uncontrolled organic HAP emissions by at least 99 percent based on a 6-month rolling average; ii. for each vent stream that you control using a control device, route the vent stream through a closed-vent system to control device; and iii. comply with the work practice standard for closed-vent systems. | (1) maintaining a material balance that includes the pertinent data used to determine the percent reduction of total organic HAP emissions; (2) documenting the percent reduction of total organic HAP emissions using the pertinent data from the material balance; (3) if using extended cookout to comply, monitoring reactor charges and keeping records to show that extended cookout was employed; (4) complying with the continuous compliance requirements for closed-vent systems.
4. closed-loop systems | each existing or new cellulose ether operation | operate and maintain a closed-loop system. | keeping a record certifying that a closed-loop system is in use for cellulose ether operations.
5. each carbon disulfide unloading and storage operation | a. each existing or new viscose process affected source | i. reduce uncontrolled carbon disulfide emissions by at least 83 percent based on a 6-month rolling average if you use an alternative control technique not listed in this table for carbon disulfide unloading and storage operations; if using a control device to reduce emissions, route emissions through a closed-vent system to the control device; and comply with the work practice standard for closed-vent systems; | (1) keeping a record documenting the 83 percent reduction in carbon disulfide emissions; and (2) if venting to a control device to reduce emissions, complying with the continuous compliance requirements for closed-vent systems;
|  | ii. reduce total uncontrolled sulfide emissions by at least 0.14 percent from viscose process vents based on a 6-month rolling average; for each vent stream that you control using a control device, route the vent stream through a closed-vent system to the control device; and comply with the work practice standard for closed-vent systems; | (1) maintaining a material balance that includes the pertinent data used to determine the percent reduction of total sulfide emissions; (2) documenting the percent reduction of total sulfide emissions using the pertinent data from the material balance; and (3) complying with the continuous compliance requirements for closed-vent systems;
|  | iii. install a nitrogen unloading and storage system; or | Keeping a record certifying that a nitrogen unloading and storage system is in use; or
|  | iv. install a nitrogen unloading system; reduce total uncontrolled sulfide emissions by at least 0.045 percent from viscose process vents based on a 6-month rolling average; for each vent stream that you control using a control device, route the vent stream through a closed-vent system to the control device; and comply with the work practice standard for closed-vent systems. | (1) keeping a record certifying that a nitrogen unloading system is in use; (2) maintaining a material balance that includes the pertinent data used to determine the percent reduction of total sulfide emissions; (3) documenting the percent reduction of total sulfide emissions using the pertinent data from the material balance; and (4) complying with the continuous compliance requirements for closed-vent systems.
6. each toluene storage vessel | a. each existing or new cellophane operation | i. reduce uncontrolled toluene emissions by at least 95 percent based on a 6-month rolling average; ii. if using a control device to reduce emissions, route the emissions through a closed-vent system to the control device; and iii. comply with the work practice standard for closed vent systems. | (1) maintaining a material balance that includes the pertinent data used to determine the percent reduction of toluene emissions; (2) documenting the percent reduction of toluene emissions using the pertinent data from the material balance; and (3) if venting to a control device to reduce emissions, complying with the continuous compliance requirements for closed-vent systems.
7. equipment leaks | a. each existing or new cellulose ether operation | i. applicable equipment leak standards of §§ 63.162 through 63.179; or ii. applicable equipment leak standards of §§ 63.1021 through 63.1037. | complying with the applicable equipment leak continuous compliance provisions of §§ 63.162 through 63.179; or complying with the applicable equipment leak continuous compliance provisions of §§ 63.1021 through 63.1037.
8. all sources of wastewater emissions | each existing or new cellulose either operation | applicable wastewater provisions of § 63.105 and §§ 63.132 through 63.140. | complying with the applicable wastewater continuous compliance provisions of §§ 63.105, 63.143, and 63.148.
9. liquid streams in open systems | each existing or new cellulose ether operation | comply with the applicable provisions of § 63.149, except that references to “chemical manufacturing process unit” mean “cellulose ether process unit” for the purposes of this subpart. | conducting inspections, repairing failures, documenting delay of repair, and maintaining records of failures and corrective actions according to §§ 63.133 through 63.137.
10. closed-vent system used to route emissions to a control device | each existing or new affected source | conduct annual inspections, repair leaks, maintain records as specified in § 63.148. | conducting the inspections, repairing leaks, and maintaining records according to § 63.148.
11. closed-vent system containing a bypass line that could divert a vent stream away from a control device, except for equipment needed for safety purposes (described in § 63.148(f)(3) | a. each existing or new affected source | i. install, calibrate, maintain, and operate a flow indicator as specified in § 63.148(f)(1); or | (1) taking readings from the flow indicator at least once every 15 minutes; (2) maintaining hourly records of flow indicator operation and detection of any diversion during the hour, and (3) recording all periods when the vent stream is diverted from the control stream or the flow indicator is not operating; or
|  | ii. secure the bypass line valve in the closed position with a car-seal or lock-and-key type configuration and inspect the seal or mechanism at least once per month as specified in § 63.148(f)(2). | (1) maintaining a record of the monthly visual inspection of the seal or closure mechanism for the bypass line; and (2) recording all periods when the seal mechanism is broken, the bypass line valve position has changed, or the key for a lock-and-key type lock has been checked out.
12. heat exchanger system that cools process equipment or materials in the process unit | a. each existing or new affected source | i. monitor and repair the heat exchanger system according to § 63.104(a) through (e), except that references to “chemical manufacturing process unit” mean “cellulose food casing, rayon, cellulosic sponge, cellophane, or cellulose ether process unit” for the purposes of this subpart. | (1) monitoring for HAP compounds, other substances, or surrogate indicators at the frequency specified in § 63.104(b) or (c); (2) repairing leaks within the time period specified in § 63.104(d)(1); (3) confirming that the repair is successful as specified in § 63.104(d)(2); (4) following the procedures in § 63.104(e) if you implement delay of repair; and (5) recording the results of inspections and repair according to § 63.104(f)(1).

16. Table 6 to Subpart UUUU is revised to read as follows:

Table 6 to Subpart UUUU of Part 63—Continuous Compliance With Operating Limits

As required in § 63.5555(a), you must demonstrate continuous compliance with the appropriate operating limits according to the requirements in the following table:

For the following control technique . . . | for the following operating limit . . . | you must demonstrate continuous compliance by . . .
1. condenser | maintain the daily average condenser outlet gas or condensed liquid temperature no higher than the value established during the compliance demonstration | collecting the condenser outlet gas or condensed liquid temperature data according to § 63.5545; reducing the condenser outlet gas temperature data to daily averages; and maintaining the daily average condenser outlet gas or condensed liquid temperature no higher than the value established during the compliance demonstration.
2. thermal oxidizer | a. for normal operations, maintain the daily average thermal oxidizer firebox temperature no lower than the value established during the compliance demonstration | collecting the thermal oxidizer firebox temperature data according to § 63.5545; reducing the thermal oxidizer firebox temperature data to daily averages; and maintaining the daily average thermal oxidizer firebox temperature no lower than the value established during the compliance demonstration.
| b. for periods of startup, maintain documentation demonstrating that the oxidizer was properly operating (e.g., firebox temperature had reached the setpoint temperature) prior to emission unit startup. | collecting the appropriate, site-specific data needed to demonstrate that the oxidizer was properly operating prior to emission unit start up; and excluding firebox temperature from the daily averages during emission unit startup.
3. water scrubber | a. for periods of normal operation, maintain the daily average scrubber pressure drop and scrubber liquid flow rate within the range of values established during the compliance demonstration | collecting the scrubber pressure drop and scrubber liquid flow rate data according to § 63.5545; reducing the scrubber parameter data to daily averages; and maintaining the daily scrubber parameter values within the range of values established during the compliance demonstration.
| b. for periods of startup and shutdown, maintain documentation to confirm that the scrubber is operating properly prior to emission unit startup and continues to operate properly until emission unit shutdown is complete. Appropriate startup and shutdown operating parameters may be based on equipment design, manufacturer's recommendations, or other site-specific operating values established for normal operating periods. | collecting the appropriate, site-specific data needed to demonstrate that the scrubber was operating properly during emission unit startup and emission unit shutdown; and excluding parameters from the daily average calculations.
4. caustic scrubber | a. for periods of normal operation, maintain the daily average scrubber pressure drop, scrubber liquid flow rate, and scrubber liquid pH, conductivity, or alkalinity within the range of values established during the compliance demonstration | collecting the scrubber pressure drop, scrubber liquid flow rate, and scrubber liquid pH, conductivity, or alkalinity data according to § 63.5545; reducing the scrubber parameter data to daily averages; and maintaining the daily scrubber parameter values within the range of values established during the compliance demonstration.
| b. for periods of startup and shutdown, maintain documentation to confirm that the scrubber is operating properly prior to emission unit startup and continues to operate properly until emission unit shutdown is complete. Appropriate startup and shutdown operating parameters may be based on equipment design, manufacturer's recommendations, or other site-specific operating values established for normal operating periods. | collecting the appropriate, site-specific data needed to demonstrate that the scrubber was operating properly during emission unit startup and emission unit shutdown; and excluding parameters from the daily average calculations.
5. flare | maintain the presence of a pilot flame | collecting the pilot flame data according to § 63.5545; and maintaining the presence of the pilot flame.
6. biofilter | maintain the daily average biofilter inlet gas temperature, biofilter effluent pH or conductivity, and pressure drop within the values established during the compliance demonstration | collecting the biofilter inlet gas temperature, biofilter effluent pH or conductivity, and biofilter pressure drop data according to § 63.5545; reducing the biofilter parameter data to daily averages; and maintaining the daily biofilter parameter values within the values established during the compliance demonstration.
7. carbon absorber | maintain the regeneration frequency, total regeneration stream mass or volumetric flow during carbon bed regeneration and temperature of the carbon bed after regeneration (and within 15 minutes of completing any cooling cycle(s)) for each regeneration cycle within the values established during the compliance demonstration | collecting the data on regeneration frequency, total regeneration stream mass or volumetric flow during carbon bed regeneration and temperature of the carbon bed after regeneration (and within 15 minutes of completing any cooling cycle(s)) for each regeneration cycle according to § 63.5545; and maintaining carbon absorber parameter values for each regeneration cycle within the values established during the compliance demonstration.
8. oil absorber | maintain the daily average absorption liquid flow, absorption liquid temperature, and steam flow within the values established during the compliance demonstration | collecting the absorption liquid flow, absorption liquid temperature, and steam flow data according to § 63.5545; reducing the oil absorber parameter data to daily averages; and maintaining the daily oil absorber parameter values within the values established during the compliance demonstration.
9. any of the control techniques specified in this table | if using a CEMS, maintain the daily average control efficiency for each control device no lower than the value established during the compliance demonstration | collecting CEMS emissions data at the inlet and outlet of each control device according to § 63.5545; determining the control efficiency values for each control device using the inlet and outlet CEMS emissions data; reducing the control efficiency values for each control device to daily averages; and maintaining the daily average control efficiency for each control device no lower than the value established during the compliance demonstration.

17. Table 7 to Subpart UUUU is revised to read as follows:

Table 7 to Subpart UUUU of Part 63—Notifications

As required in §§ 63.5490(c)(4), 63.5530(c), 63.5575, and 63.5595(b), you must submit the appropriate notifications specified in the following table:

If you . . . | then you must . . .
1. are required to conduct a performance test | submit a notification of intent to conduct a performance test at least 60 calendar days before the performance test is scheduled to begin, as specified in §§ 63.7(b)(1) and 63.9(e).
2. are required to conduct a CMS performance evaluation | submit a notification of intent to conduct a CMS performance evaluation at least 60 calendar days before the CMS performance evaluation is scheduled to begin, as specified in §§ 63.8(e)(2) and 63.9(g).
3. wish to use an alternative monitoring method | submit a request to use alternative monitoring method no later than the notification of the initial performance test or CMS performance evaluation or 60 days prior to any other initial compliance demonstration, as specified in § 63.8(f)(4).
4. start up your affected source before June 11, 2002 | submit an initial notification no later than 120 days after June 11, 2002, as specified in § 63.9(b)(2).
5. start up your new or reconstructed source on or after June 11, 2002 | submit an initial notification no later than 120 days after you become subject to this subpart, as specified in § 63.9(b)(3).
6. cannot comply with the relevant standard by the applicable compliance date | submit a request for extension of compliance no later than 120 days before the compliance date, as specified in §§ 63.9(c) and 63.6(i)(4).
7. are subject to special requirements as specified in § 63.6(b)(3) and (4) | notify the Administrator of your compliance obligations no later than the initial notification dates established in § 63.9(b) for new sources not subject to the special provisions, as specified in § 63.9(d).
8. are required to conduct visible emission observations to determine the compliance of flares as specified in § 63.11(b)(4) | notify the Administrator of the anticipated date for conducting the observations specified in § 63.6(h)(5), as specified in §§ 63.6(h)(4) and 63.9(f).
9. are required to conduct a performance test or other initial compliance demonstration as specified in Table 3 to this subpart | a. submit a Notification of Compliance Status Report, as specified in § 63.9(h); b. submit the Notification of Compliance Status Report, including the performance test, CEMS performance evaluation, and any other initial compliance demonstration results within 240 calendar days following the compliance date specified in § 63.5495; and c. for sources which construction or reconstruction commenced on or before September 9, 2019, beginning on December 29, 2020, submit all subsequent Notifications of Compliance Status following the procedure specified in § 63.5580(g), (j), and (k). For sources which construction or reconstruction commenced after September 9, 2019, on July 2, 2020, or immediately upon startup, whichever is later, submit all subsequent Notifications of Compliance Status following the procedure specified in § 63.5580(g), (j), and (k).
10. comply with the equipment leak requirements of subpart H of this part for existing or new cellulose ether affected sources | comply with the notification requirements specified in § 63.182(a)(1) and (2), (b), and (c)(1) through (3) for equipment leaks, with the Notification of Compliance Status Reports required in subpart H included in the Notification of Compliance Status Report required in this subpart.
11. comply with the equipment leak requirements of subpart UU of this part for existing or new cellulose ether affected sources | comply with the notification requirements specified in § 63.1039(a) for equipment leaks, with the Notification Compliance Status Reports required in subpart UU of this part included in the Notification of Compliance Status Report required in this subpart.
12. comply with the wastewater requirements of subparts F and G of this part for existing or new cellulose ether affected sources | comply with the notification requirements specified in §§ 63.146(a) and (b), 63.151, and 63.152(a)(1) through (3) and (b)(1) through (5) for wastewater, with the Notification of Compliance Status Reports required in subpart G of this part included in the Notification of Compliance Status Report required in this subpart.

18. Table 8 to Subpart UUUU is revised to read as follows:

Table 8 to Subpart UUUU of Part 63—Reporting Requirements

As required in § 63.5580, you must submit the appropriate reports specified in the following table:

You must submit a compliance report, which must contain the following information . . . | and you must submit the report . . .
1. if there are no deviations from any emission limit, operating limit, or work practice standard during the reporting period, then the report must contain the information specified in § 63.5580(c); | semiannually as specified in § 63.5580(b); beginning on December 29, 2020, submit all subsequent reports following the procedure specified in § 63.5580(g).
2. if there were no periods during which the CMS was out-of-control, then the report must contain the information specified in § 63.5580(c)(6);
3. if there is a deviation from any emission limit, operating limit, or work practice standard during the reporting period, then the report must contain the information specified in § 63.5580(c) and (d);
4. if there were periods during which the CMS was out-of-control, then the report must contain the information specified in § 63.5580(e);
5. for sources which commenced construction or reconstruction on or before September 9, 2019, if prior to December 29, 2020, you had a startup, shutdown, or malfunction during the reporting period and you took actions consistent with your SSM plan, then the report must contain the information specified in § 63.10(d)(5)(i);
6. for sources which commenced construction or reconstruction on or before September 9, 2019, if prior to December 29, 2020, you had a startup, shutdown, or malfunction during the reporting period and you took actions that are not consistent with your SSM plan, then the report must contain the information specified in § 63.10(d)(5)(ii);
7. the report must contain any change in information already provided, as specified in § 63.9(j);
8. for cellulose ether affected sources complying with the equipment leak requirements of subpart H of this part, the report must contain the information specified in § 63.182(a)(3) and (6) and (d)(2) through (4);
9. for cellulose ether affected sources complying with the equipment leak requirements of subpart UU of this part, the report must contain the information specified in § 63.1039(b);
10. for cellulose ether affected sources complying with the wastewater requirements of subparts F and G of this part, the report must contain the information specified in §§ 63.146(c) through (e) and 63.152(a)(4) and (5) and (c) through (e);
11. for affected sources complying with the closed-vent system provisions in § 63.148, the report must contain the information specified in § 63.148(j)(1);
12. for affected sources complying with the bypass line provisions in § 63.148(f), the report must contain the information specified in § 63.148(j)(2) and (3);
13. for affected sources invoking the delay of repair provisions in § 63.104(e) for heat exchanger systems, the next compliance report must contain the information in § 63.104(f)(2)(i) through (iv); if the leak remains unrepaired, the information must also be submitted in each subsequent compliance report until the repair of the leak is reported; and
14. for storage vessels subject to the emission limits and work practice standards in Table 1 to Subpart UUUU, the report must contain the periods of planned routine maintenance during which the control device does not comply with the emission limits or work practice standards in Table 1 to this subpart.

19. Table 9 to Subpart UUUU is revised to read as follows:

Table 9 to Subpart UUUU of Part 63—Recordkeeping Requirements

As required in § 63.5585, you must keep the appropriate records specified in the following table:

If you operate . . . | then you must keep . . . | and the record(s) must contain . . .
1. an existing or new affected source | a copy of each notification and report that you submitted to comply with this subpart | all documentation supporting any Initial Notification or Notification of Compliance Status Report that you submitted, according to the requirements in § 63.10(b)(2)(xiv), and any compliance report required under this subpart.
2. an existing or new affected source that commenced construction or reconstruction on or before September 9, 2019 | a. the records in § 63.6(e)(3)(iii) through (iv) related to startup, shutdown, and malfunction prior to December 30, 2020 | i. SSM plan; ii. when actions taken during a startup, shutdown, or malfunction are consistent with the procedures specified in the SSM plan, records demonstrating that the procedures specified in the plan were followed; iii. records of the occurrence and duration of each startup, shutdown, or malfunction; and iv. when actions taken during a startup, shutdown, or malfunction are not consistent with the procedures specified in the SSM plan, records of the actions taken for that event.
| b. records related to startup and shutdown, failures to meet the standard, and actions taken to minimize emissions after December 29, 2020 | i. record the date, time, and duration of each startup and/or shutdown period, including the periods when the affected source was subject to the alternative operating parameters applicable to startup and shutdown; ii. in the event that an affected unit fails to meet an applicable standard, record the number of failures. For each failure, record the date, time and duration of each failure; iii. for each failure to meet an applicable standard, record and retain a list of the affected sources or equipment, an estimate of the quantity of each regulated pollutant emitted over any emission limit and a description of the method used to estimate the emissions; and iv. record actions taken to minimize emissions in accordance with § 63.5515(b), and any corrective actions taken to return the affected unit to its normal or usual manner of operation.
3. a new or reconstructed affected source that commenced construction or reconstruction after September 9, 2019 | a. records related to startup and shutdown, failures to meet the standard, and actions taken to minimize emissions | i. record the date, time, and duration of each startup and/or shutdown period, including the periods when the affected source was subject to alternative operating parameters applicable to startup and shutdown; ii. in the event that an affected unit fails to meet an applicable standard, record the number of failures. For each failure, record the date, time and duration of each failure; iii. for each failure to meet an applicable standard, record and retain a list of the affected sources or equipment, an estimate of the quantity of each regulated pollutant emitted over any emission limit and a description of the method used to estimate the emissions; and iv. record actions taken to minimize emissions in accordance with § 63.5515(b), and any corrective actions taken to return the affected unit to its normal or usual manner of operation.
4. an existing or new affected source | a. a site-specific monitoring plan | i. information regarding the installation of the CMS sampling source probe or other interface at a measurement location relative to each affected process unit such that the measurement is representative of control of the exhaust emissions (e.g., on or downstream of the last control device); ii. performance and equipment specifications for the sample interface, the pollutant concentration or parametric signal analyzer, and the data collection and reduction system; iii. performance evaluation procedures and acceptance criteria (e.g., calibrations); iv. ongoing operation and maintenance procedures in accordance with the general requirements of §§ 63.8(c)(3) and (4)(ii), 63.5515(b), and 63.5580(c)(6); v. ongoing data quality assurance procedures in accordance with the general requirements of § 63.8(d)(2); and vi. ongoing recordkeeping and reporting procedures in accordance with the general requirements of §§ 63.10(c)(1)-(6), (c)(9)-(14), (e)(1), and (e)(2)(i) and 63.5585.
5. an existing or new affected source | records of performance tests and CEMS performance evaluations, as required in § 63.10(b)(2)(viii) and any other initial compliance demonstrations | all results of performance tests, CEMS performance evaluations, and any other initial compliance demonstrations, including analysis of samples, determination of emissions, and raw data.
6. an existing or new affected source | a. records for each CEMS | i. records described in § 63.10(b)(2)(vi) through (xi); ii. previous (superseded) versions of the performance evaluation plan, with the program of corrective action included in the plan required under § 63.8(d)(2); iii. request for alternatives to relative accuracy test for CEMS as required in § 63.8(f)(6)(i); iv. records of the date and time that each deviation started and stopped, and whether the deviation occurred during a period of startup, shutdown, or malfunction or during another period; and v. records required in Table 6 to Subpart UUUU to show continuous compliance with the operating limit.
7. an existing or new affected source | a. records for each CPMS | i. records required in Table 6 to Subpart UUUU to show continuous compliance with each operating limit that applies to you; and ii. results of each CPMS calibration, validation check, and inspection required by § 63.5545(b)(4).
8. an existing or new cellulose ether affected ether source | records of closed-loop systems | records certifying that a closed-loop system is in use for cellulose ether operations.
9. an existing or new viscose process affected source | records of nitrogen unloading and storage systems or nitrogen unloading systems | records certifying that a nitrogen unloading and storage systems or nitrogen unloading system is in use.
10. an existing or new viscose process affected source | records of material balances | all pertinent data from the material balances used to estimate the 6-month rolling average percent reduction in HAP emissions.
11. an existing or new viscose process affected source | records of calculations | documenting the percent reduction in HAP emissions using pertinent data from the material balances.
12. an existing or new cellulose ether affected source | a. extended cookout records | i. the amount of HAP charged to the reactor; ii. the grade of product produced; iii. the calculated amount of HAP remaining before extended cookout; and iv. information showing that extended cookout was employed.
13. an existing or new cellulose ether affected source | a. equipment leak records | i. the records specified in § 63.181 for equipment leaks; or ii. the records specified in 63.1038 for equipment leaks.
14. an existing or new cellulose ether affected source | wastewater records | the records specified in §§ 63.105, 63.147, and 63.152(f) and (g) for wastewater.
15. an existing or new affected source | closed-vent system records | the records specified in § 63.148(i).
16. an existing or new affected source | a. bypass line records | i. hourly records of flow indicator operation and detection of any diversion during the hour and records of all periods when the vent stream is diverted from the control stream or the flow indicator is not operating; or ii. the records of the monthly visual inspection of the seal or closure mechanism and of all periods when the seal mechanism is broken, the bypass line valve position has changed, or the key for a lock-and-key type lock has been checked out and records of any car-seal that has broken.
17. an existing or new affected source | heat exchanger system records | records of the results of inspections and repair according to source § 63.104(f)(1).
18. an existing or new affected source | control device maintenance records | records of planned routine maintenance for control devices used to comply with the percent reduction emission limit for storage vessels in Table 1 to Subpart UUUU.
19. an existing or new affected source | safety device records | a record of each time a safety device is opened to avoid unsafe conditions according to § 63.5505(d).

20. Table 10 to Subpart UUUU is revised to read as follows:

Table 10 to Subpart UUUU of Part 63—Applicability of General Provisions to Subpart UUUU

As required in §§ 63.5515(h) and 63.5600, you must comply with the appropriate General Provisions requirements specified in the following table:

Citation | Subject | Brief description | Applies to Subpart UUUU
§ 63.1 | Applicability | Initial applicability determination; applicability after standard established; permit requirements; extensions, notifications | Yes.
§ 63.2 | Definitions | Definitions for part 63 standards | Yes.
§ 63.3 | Units and Abbreviations | Units and abbreviations for part 63 standards | Yes.
§ 63.4 | Prohibited Activities and Circumvention | Prohibited activities; compliance date; circumvention, severability | Yes.
§ 63.5 | Preconstruction Review and Notification Requirements | Preconstruction review requirements of section 112(i)(1) | Yes.
§ 63.6(a) | Applicability | General provisions apply unless compliance extension; general provisions apply to area sources that become major | Yes.
§ 63.6(b)(1) through (4) | Compliance Dates for New and Reconstructed sources | Standards apply at effective date; 3 years after effective date; upon startup; 10 years after construction or reconstruction commences for CAA section 112(f) | Yes.
§ 63.6(b)(5) | Notification | Must notify if commenced construction or reconstruction after proposal | Yes.
§ 63.6(b)(6) | [Reserved]
§ 63.6(b)(7) | Compliance Dates for New and Reconstructed Area Sources That Become Major | Area sources that become major must comply with major source and standards immediately upon becoming major, regardless of whether required to comply when they were an area source | Yes.
§ 63.6(c)(1) and (2) | Compliance Dates for Existing Sources | Comply according to date in subpart, which must be no later than 3 years after effective date; for CAA section 112(f) standards, comply within 90 days of effective date unless compliance extension | Yes.
§ 63.6(c)(3) and (4) | [Reserved]
§ 63.6(c)(5) | Compliance Dates for Existing Area Sources That Become Major | Area sources that become major must comply with major source standards by date indicated in subpart or by equivalent time period (e.g., 3 years) | Yes.
§ 63.6(d) | [Reserved] |  |
§ 63.6(e)(1)(i) | General Duty to Minimize Emissions | You must operate and maintain affected source in a manner consistent with safety and good air pollution control practices for minimizing emissions | No, for new or reconstructed sources which commenced construction or reconstruction after September 9, 2019. For all other affected sources, Yes before December 30, 2020, and No thereafter. See 40 CFR 63.5515(b) for general duty requirement.
§ 63.6(e)(1)(ii) | Requirement to Correct Malfunctions ASAP | You must correct malfunctions as soon as practicable after their occurrence | No, for new or reconstructed sources which commenced construction or reconstruction after September 9, 2019. For all other affected sources, Yes before December 30, 2020, and No thereafter.
§ 63.6(e)(1)(iii) | Operation and Maintenance Requirements | Operation and maintenance requirements are enforceable independent of emissions limitations or other requirements in relevant standards | Yes.
§ 63.6(e)(2) | [Reserved]
§ 63.6(e)(3) | SSM Plan | Requirement for SSM and SSM plan; content of SSM plan | No, for new or reconstructed sources which commenced construction or reconstruction after September 9, 2019. For all other affected sources, Yes before December 30, 2020, and No thereafter. See 40 CFR 63.5515(c).
§ 63.6(f)(1) | SSM Exemption | You must comply with emission standards at all times except during SSM | No, see 40 CFR 63.5515(a).
§ 63.6(f)(2) and (3) | Methods for Determining Compliance/Finding of Compliance | Compliance based on performance test, operation and maintenance plans, records, inspection | Yes.
§ 63.6(g)(1) through (3) | Alternative Standard | Procedures for getting an alternative standard | Yes.
§ 63.6(h)(1) | SSM Exemption | You must comply with opacity and visible emission standards at all times except during SSM | No, see CFR 63.5515(a).
§ 63.6(h)(2) through (9) | Opacity and Visible Emission (VE) Standards | Requirements for opacity and visible emission limits | Yes, but only for flares for which EPA Method 22 observations are required under § 63.11(b).
§ 63.6(i)(1) through (16) | Compliance Extension | Procedures and criteria for Administrator to grant compliance extension | Yes.
§ 63.6(j) | Presidential Compliance Exemption | President may exempt source category from requirement to comply with subpart | Yes.
§ 63.7(a)(1) and (2) | Performance Test Dates | Dates for conducting initial performance test; testing and other compliance demonstrations; must conduct 180 days after first subject to subpart | Yes.
§ 63.7(a)(3) | Section 114 Authority | Administrator may require a performance test under CAA section 114 at any time | Yes.
§ 63.7(b)(1) | Notification of Performance Test | Must notify Administrator 60 days before the test | Yes.
§ 63.7(b)(2) | Notification of Rescheduling | If rescheduling a performance test is necessary, must notify Administrator 5 days before scheduled date of rescheduled test | Yes.
§ 63.7(c) | Quality Assurance and Test Plan | Requirement to submit site-specific test plan 60 days before the test or on date Administrator agrees with; test plan approval procedures; performance audit requirements; internal and external QA procedures for testing | No.
§ 63.7(d) | Testing Facilities | Requirements for testing facilities | Yes.
§ 63.7(e)(1) | Performance Testing | Performance tests must be conducted under representative conditions; cannot conduct performance tests during SSM; not a violation to exceed standard during SSM | No, see § 63.5535 and Table 4.
§ 63.7(e)(2) | Conditions for Conducting Performance Tests | Must conduct according to this subpart and EPA test methods unless Administrator approves alternative | Yes.
§ 63.7(e)(3) | Test Run Duration | Must have three test runs of at least 1 hour each; compliance is based on arithmetic mean of three runs; conditions when data from an additional test run can be used | Yes.
§ 63.7(f) | Alternative Test Method | Procedures by which Administrator can grant approval to use an alternative test method | Yes.
§ 63.7(g) | Performance Test Data Analysis | Must include raw data in performance test report; must submit performance test data 60 days after end of test with the Notification of Compliance Status Report; keep data for 5 years | Yes.
§ 63.7(h) | Waiver of Tests | Procedures for Administrator to waive performance test | Yes.
§ 63.8(a)(1) | Applicability of Monitoring Requirements | Subject to all monitoring requirements in standard | Yes.
§ 63.8(a)(2) | Performance Specifications | Performance specifications in appendix B of 40 CFR part 60 apply | Yes.
§ 63.8(a)(3) | [Reserved]
§ 63.8(a)(4) | Monitoring with Flares | Unless your subpart says otherwise, the requirements for flares in § 63.11 apply | Yes.
§ 63.8(b)(1) | Monitoring | Must conduct monitoring according to standard unless Administrator approves alternative | Yes.
§ 63.8(b)(2) and (3) | Multiple Effluents and Multiple Monitoring Systems | Specific requirements for installing monitoring systems; must install on each effluent before it is combined and before it is released to the atmosphere unless Administrator approves otherwise; if more than one monitoring system on an emission point, must report all monitoring system results, unless one monitoring system is a backup | Yes.
§ 63.8(c)(1) and (c)(1)(i) | General Duty to Minimize Emissions and CMS Operation | Maintain monitoring system in a manner consistent with good air pollution control practices | No, for new or reconstructed sources which commenced construction or reconstruction after September 9, 2019. For all other affected sources, Yes before December 30, 2020, and No thereafter. See 40 CFR 63.5515(b).
§ 63.8(c)(1)(ii) | Parts for Routine Repairs | Keep parts for routine repairs readily available | Yes.
§ 63.8(c)(1)(iii) | Requirements to develop SSM Plan for CMS | Develop a written SSM plan for CMS | No, for new or reconstructed sources which commenced construction or reconstruction after September 9, 2019. For all other affected sources, Yes before December 30, 2020, and No thereafter. See 40 CFR 63.5515(c).
§ 63.8(c)(2) and (3) | Monitoring System Installation | Must install to get representative emission of parameter measurements; must verify operational status before or at performance test | Yes.
§ 63.8(c)(4) | CMS Requirements | CMS must be operating except during breakdown, out-of control, repair, maintenance, and high-level calibration drifts | No. Replaced with language in § 63.5560.
§ 63.8(c)(4)(i) and (ii) | CMS Requirements | Continuous opacity monitoring systems (COMS) must have a minimum of one cycle of sampling and analysis for each successive 10-second period and one cycle of data recording for each successive 6-minute period; CEMS must have a minimum of one cycle of operation for each successive 15-minute period | Yes, except that § 63.8(c)(4)(i) does not apply because subpart UUUU does not require COMS.
§ 63.8(c)(5) | COMS Minimum Procedures | COMS minimum procedures | No. Subpart UUUU does not require COMS.
§ 63.8(c)(6) | CMS Requirements | Zero and high level calibration check requirements; out-of-control periods | No. Replaced with language in § 63.5545.
§ 63.8(c)(7) and (8) | CMS Requirements | Out-of-control periods, including reporting | No. Replaced with language in § 63.5580(c)(6).
§ 63.8(d) | CMS Quality Control | Requirements for CMS quality control, including calibration, etc.; must keep quality control plan on record for 5 years; keep old versions for 5 years after revisions; program of correction action to be included in plan required under § 63.8(d)(2) | No, except for requirements in § 63.8(d)(2).
§ 63.8(e) | CMS Performance Evaluation | Notification, performance evaluation test plan, reports | Yes, except that § 63.8(e)(5)(ii) does not apply because subpart UUUU does not require COMS.
§ 63.8(f)(1) through (5) | Alternative Monitoring Method | Procedures for Administrator to approve alternative monitoring | Yes, except that no site-specific test plan is required. The request to use an alternative monitoring method must be submitted with the notification of performance test or CEMS performance evaluation or 60 days prior to any initial compliance demonstration.
§ 63.8(f)(6) | Alternative to Relative Accuracy Test | Procedures for Administrator to approve alternative relative accuracy tests for CEMS | Yes.
§ 63.8(g)(1) through (4) | Data Reduction | COMS 6-minute averages calculated over at least 36 evenly spaced data points; CEMS 1-hour averages computed over at least four equally spaced data points; data that cannot be used in average | No. Replaced with language in § 63.5545(e).
§ 63.8(g)(5) | Data Reduction | Data that cannot be used in computing averages for CEMS and COMS | No. Replaced with language in § 63.5560(b).
§ 63.9(a) | Notification Requirements | Applicability and State delegation | Yes.
§ 63.9(b)(1) through (5) | Initial Notifications | Submit notification subject 120 days after effective date; notification of intent to construct or reconstruct; notification of commencement of construction or reconstruction; notification of startup; contents of each | Yes.
§ 63.9(c) | Request for Compliance Extension | Can request if cannot comply by date or if installed BACT/LAER | Yes.
§ 63.9(d) | Notification of Special Compliance Requirements for New Source | For sources that commence construction between proposal and promulgation and want to comply 3 years after effective date | Yes.
§ 63.9(e) | Notification of Performance Test | Notify Administrator 60 days prior | Yes.
§ 63.9(f) | Notification of VE or Opacity Test | Notify Administrator 30 days prior | Yes, but only for flares for which EPA Method 22 observations are required as part of a flare compliance assessment.
§ 63.9(g) | Additional Notifications When Using CMS | Notification of performance evaluation; notification using COMS data; notification that exceeded criterion for relative accuracy | Yes, except that § 63.9(g)(2) does not apply because subpart UUUU does not require COMS.
§ 63.9(h)(1) through (6) | Notification of Compliance Status Report | Contents; due 60 days after end of performance test or other compliance demonstration, except for opacity or VE, which are due 30 days after; when to submit to federal vs. state authority | Yes, except that Table 7 to this subpart specifies the submittal date for the notification. The contents of the notification will also include the results of EPA Method 22 observations required as part of a flare compliance assessment.
§ 63.9(i) | Adjustment of Submittal Deadlines | Procedures for Administrator to approve change in when notifications must be submitted | Yes.
§ 63.9(j) | Change in Previous Information | Must submit within 15 days after the change | Yes, except that the notification must be submitted as part of the next semiannual compliance report, as specified in Table 8 to this subpart.
§ 63.10(a) | Recordkeeping and Reporting | Applies to all, unless compliance extension; when to submit to federal vs. state authority; procedures for owners of more than one source | Yes.
§ 63.10(b)(1) | Recordkeeping and Reporting | General requirements; keep all records readily available; keep for 5 years | Yes.
§ 63.10(b)(2)(i) | Recordkeeping of Occurrence and Duration of Startups and Shutdowns | Records of occurrence and duration of each startup or shutdown that causes source to exceed emission limitation | No, for new or reconstructed sources which commenced construction or reconstruction after September 9, 2019.For all other affected sources, Yes before December 29, 2020, and No thereafter.
§ 63.10(b)(2)(ii) | Recordkeeping of Failures to Meet a Standard | Records of occurrence and duration of each malfunction of operation or air pollution control and monitoring equipment | No, see Table 9 for recordkeeping of (1) date, time and duration; (2) listing of affected source or equipment, and an estimate of the quantity of each regulated pollutant emitted over the standard; and (3) actions to minimize emissions and correct the failure.
§ 63.10(b)(2)(iii) | Maintenance Records | Records of maintenance performed on air pollution control and monitoring equipment | Yes.
§ 63.10(b)(2)(iv) and (v) | Actions Taken to Minimize Emissions During SSM | Records of actions taken during SSM to minimize emissions | No, for new or reconstructed sources which commenced construction or reconstruction after September 9, 2019. For all other affected sources, Yes before December 30, 2020, and No thereafter.
§ 63.10(b)(2)(vi), (x), and (xi) | CMS Records | Malfunctions, inoperative, out-of-control; calibration checks, adjustments, maintenance | Yes.
§ 63.10(b)(2)(vii) through (ix) | Records | Measurements to demonstrate compliance with emission limits; performance test, performance evaluation, and opacity/VE observation results; measurements to determine conditions of performance tests and performance evaluations | Yes, including results of EPA Method 22 observations required as part of a flare compliance assessment.
§ 63.10(b)(2)(xii) | Records | Records when under waiver | Yes.
§ 63.10(b)(2)(xiii) | Records | Records when using alternative to relative accuracy test | Yes.
§ 63.10(b)(2)(xiv) | Records | All documentation supporting Initial Notification and Notification of Compliance Status Report | Yes.
§ 63.10(b)(3) | Records | Applicability determinations | Yes.
§ 63.10(c)(1) through (6), (9) through (14) | Records | Additional records for CMS | Yes.
§ 63.10(c)(7) and (8) | Records | Records of excess emissions and parameter monitoring exceedances for CMS | No. Replaced with language in Table 9 to this subpart.
§ 63.10(c)(15) | Use of SSM Plan | Use SSM plan to satisfy recordkeeping requirements for identification of malfunction, correction action taken, and nature of repairs to CMS | No, for new or reconstructed sources which commenced construction or reconstruction after September 9, 2019. For all other affected sources, Yes before December 30, 2020, and No thereafter. See 40 CFR 63.5515(c).
§ 63.10(d)(1) | General Reporting Requirements | Requirement to report | Yes.
§ 63.10(d)(2) | Report of Performance Test Results | When to submit to federal or state authority | Yes, except that Table 7 to this subpart specifies the submittal date for the Notification of Compliance Status Report.
§ 63.10(d)(3) | Reporting Opacity or VE Observations | What to report and when | Yes, but only for flares for which EPA Method 22 observations are required as part of a flare compliance assessment.
§ 63.10(d)(4) | Progress Reports | Must submit progress reports on schedule if under compliance extension | Yes.
§ 63.10(d)(5)(i) | Periodic SSM Reports | Contents and submission of periodic SSM reports | No, for new or reconstructed sources which commenced construction or reconstruction after September 9, 2019. For all other affected sources, Yes before December 30, 2020, and No thereafter. See § 63.5580(c)(4) and Table 8 for malfunction reporting requirements.
§ 63.10(d)(5)(ii) | Immediate SSM Reports | Contents and submission of immediate SSM reports | No, for new or reconstructed sources which commenced construction or reconstruction after September 9, 2019. For all other affected sources, Yes before December 29, 2020, except that the immediate SSM report must be submitted as part of the next semiannual compliance report, as specified in Table 8 to this subpart, and No thereafter.
§ 63.10(e)(1) and (2) | Additional CMS Reports | Must report results for each CEMS on a unit; written copy of performance evaluation; three copies of COMS performance evaluation | Yes, except that § 63.10(e)(2)(ii) does not apply because subpart UUUU does not require COMS.
§ 63.10(e)(3)(i) through (iii) | Reports | Schedule for reporting excess emissions and parameter monitor exceedance (now defined as deviations) | No. Replaced with language in § 63.5580.
§ 63.10(e)(3)(iv) | Excess Emissions Reports | Requirement to revert to quarterly submission if there is an excess emissions and parameter monitor exceedance (now defined as deviations); provision to request semiannual reporting after compliance for 1 year; submit report by 30th day following end of quarter or calendar half; if there has not been an exceedance or excess emission (now defined as deviations), report contents is a statement that there have been no deviations | No. Replaced with language in § 63.5580.
§ 63.10(e)(3)(v) | Excess Emissions Reports | Must submit report containing all of the information in § 63.10(c)(5) through (13), § 63.8(c)(7) and (8) | No. Replaced with language in § 63.5580.
§ 63.10(e)(3)(vi) through (viii) | Excess Emissions Report and Summary Report | Requirements for reporting excess emissions for CMS (now called deviations); requires all of the information in § 63.10(c)(5) through (13), § 63.8(c)(7) and (8) | No. Replaced with language in § 63.5580.
§ 63.10(e)(4) | Reporting COMS Data | Must submit COMS data with performance test data | No. Subpart UUUU does not require COMS.
§ 63.10(f) | Waiver for Recordkeeping or Reporting | Procedures for Administrator to waive | Yes.
§ 63.11 | Control and Work Practice Requirements | Requirements for flares and alternative work practice for equipment leaks | Yes.
§ 63.12 | State Authority and Delegations | State authority to enforce standards | Yes.
§ 63.13 | Addresses | Addresses where reports, notifications, and requests are sent | Yes.
§ 63.14 | Incorporations by Reference | Test methods incorporated by reference | Yes.
§ 63.15 | Availability of Information and Confidentiality | Public and confidential information | Yes.
§ 63.16 | Performance Track Provisions | Requirements for Performance Track member facilities | Yes.

[FR Doc. 2020-05901 Filed 7-1-20; 8:45 am]

BILLING CODE 6560-50-P